DEPARTMENT OF THE TREASURY

Office of the Comptroller of the Currency

FEDERAL RESERVE SYSTEM

FEDERAL DEPOSIT INSURANCE CORPORATION

Agency Information Collection Activities: Submission for OMB Review; Joint Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (PRA), the OCC, the Board, and the FDIC (the agencies) may not conduct or sponsor, and the respondent is not required to respond to, an information collection unless it displays a currently valid Office of Management and Budget (OMB) control number. On November 8, 2017, the agencies, under the auspices of the Federal Financial Institutions Examination Council (FFIEC), requested public comment for 60 days on a proposal to revise the Consolidated Reports of Condition and Income for a Bank with Domestic and Foreign Offices (FFIEC 031), the Consolidated Reports of Condition and Income for a Bank with Domestic Offices Only (FFIEC 041), and the Consolidated Reports of Condition and Income for a Bank with Domestic Offices Only and Total Assets Less than $1 Billion (FFIEC 051) (November 2017 notice), which are currently approved collections of information. The Consolidated Reports of Condition and Income are commonly referred to as Call Reports. The proposed revisions to the FFIEC 031, FFIEC 041, and FFIEC 051 Call Reports would result in an overall reduction in burden. These reporting revisions consist of the deletion or consolidation of a large number of items and the addition of a new or increases in certain existing reporting thresholds.

The comment period for the November 2017 notice ended on January 8, 2018. As described in the SUPPLEMENTARY INFORMATION section, after considering the comments received on the proposal, the FFIEC and the agencies will proceed with the proposed reporting revisions to the FFIEC 031, FFIEC 041, and FFIEC 051 as originally proposed. The proposed revisions would take effect as of the June 30, 2018, report date.

In addition, the agencies are giving notice that they are sending the collection to OMB for review.

DATES: Comments must be submitted on or before May 11, 2018.

ADDRESSES: Interested parties are invited to submit written comments to any or all of the agencies. All comments, which should refer to the OMB control number(s), will be shared among the agencies.

OCC: Commenters are encouraged to submit comments by email, but you may submit comments by any of the following methods:

• Email: prainfo@occ.treas.gov.

• Mail: Legislative and Regulatory Activities Division, Office of the Comptroller of the Currency, Attention: 1557-0081, 400 7th Street SW, Suite 3E-218, Washington, DC 20219.

• Hand Delivery/Courier: 400 7th Street SW, Suite 3E-218, Washington, DC 20219.

Instructions: You must include “OCC” as the agency name and “1557-0081” in your comment. In general, the OCC will publish them on www.reginfo.gov without change, including any business or personal information that you provide, such as name and address information, email addresses, or phone numbers. Comments received, including attachments and other supporting materials, are part of the public record and subject to public disclosure. Do not include any information in your comment or supporting materials that you consider confidential or inappropriate for public disclosure.

You may review comments and other related materials that pertain to this information collection following the close of the 30-day comment period for this notice by any of the following methods:

• Viewing Comments Electronically: Go to www.reginfo.gov. Click on the “Information Collection Review” tab. Underneath, the “Currently under Review” section heading, from the drop-down menu, select “Department of Treasury” and then click “submit.” This information collection can be located by searching by OMB control number “1557-0081” or “FFIEC 031, FFIEC 041, and FFIEC 051.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

• Viewing Comments Personally: You may personally inspect and photocopy comments at the OCC, 400 7th Street SW, Washington, DC. For security reasons, the OCC requires that visitors make an appointment to inspect comments. You may do so by calling (202) 649-6700 or, for persons who are deaf or hearing impaired, TTY, (202) 649-5597. Upon arrival, visitors will be required to present valid government-issued photo identification and submit to security screening in order to inspect and photocopy comments.

Board: You may submit comments, which should refer to “FFIEC 031, FFIEC 041, and FFIEC 051,” by any of the following methods:

• Agency website: http://www.federalreserve.gov. Follow the instructions for submitting comments at: http://www.federalreserve.gov/generalinfo/foia/ProposedRegs.cfm.

• Email: regs.comments@federalreserve.gov. Include the reporting form numbers in the subject line of the message.

• Fax: (202) 452-3819 or (202) 452-3102.

• Mail: Ann E. Misback, Secretary, Board of Governors of the Federal Reserve System, 20th Street and Constitution Avenue NW, Washington, DC 20551.

All public comments are available from the Board's website at www.federalreserve.gov/generalinfo/foia/ProposedRegs.cfm as submitted, unless modified for technical reasons. Accordingly, your comments will not be edited to remove any identifying or contact information. Public comments may also be viewed electronically or in paper form in Room 3515, 1801 K Street NW (between 18th and 19th Streets NW), Washington, DC 20006 between 9:00 a.m. and 5:00 p.m. on weekdays.

FDIC: You may submit comments, which should refer to “FFIEC 031, FFIEC 041, and FFIEC 051,” by any of the following methods:

• Agency website: https://www.fdic.gov/regulations/laws/federal/. Follow the instructions for submitting comments on the FDIC's website.

• Email: comments@FDIC.gov. Include “FFIEC 031, FFIEC 041, and FFIEC 051” in the subject line of the message.

• Mail: Manuel E. Cabeza, Counsel, Attn: Comments, Room MB-3007, Federal Deposit Insurance Corporation, 550 17th Street NW, Washington, DC 20429.

• Hand Delivery: Comments may be hand delivered to the guard station at the rear of the 550 17th Street Building (located on F Street) on business days between 7:00 a.m. and 5:00 p.m.

Public Inspection: All comments received will be posted without change to https://www.fdic.gov/regulations/laws/federal/ including any personal information provided. Paper copies of public comments may be requested from the FDIC Public Information Center by telephone at (877) 275-3342 or (703) 562-2200.

Additionally, commenters may send a copy of their comments to the OMB desk officer for the agencies by mail to the Office of Information and Regulatory Affairs, U.S. Office of Management and Budget, New Executive Office Building, Room 10235, 725 17th Street NW, Washington, DC 20503; by fax to (202) 395-6974; or by email to oira_submission@omb.eop.gov.

FOR FURTHER INFORMATION CONTACT: For further information about the proposed revisions to the Call Report discussed in this notice, please contact any of the agency staff whose names appear below. In addition, copies of the Call Report forms can be obtained at the FFIEC's website (https://www.ffiec.gov/ffiec_report_forms.htm).

OCC: Kevin Korzeniewski, Counsel, Legislative and Regulatory Activities Division, (202) 649-5490, or for persons who are hearing impaired, TTY, (202) 649-5597.

Board: Nuha Elmaghrabi, Federal Reserve Board Clearance Officer, (202) 452-3884, Office of the Chief Data Officer, Board of Governors of the Federal Reserve System, 20th and C Streets NW, Washington, DC 20551. Telecommunications Device for the Deaf (TDD) users may call (202) 263-4869.

FDIC: Manuel E. Cabeza, Counsel, (202) 898-3767, Legal Division, Federal Deposit Insurance Corporation, 550 17th Street NW, Washington, DC 20429.

SUPPLEMENTARY INFORMATION: The agencies propose revisions to data items reported on the FFIEC 031, FFIEC 041, and FFIEC 051 Call Reports.

Report Title: Consolidated Reports of Condition and Income (Call Report).

Form Numbers: FFIEC 031 (for banks and savings associations with domestic and foreign offices), FFIEC 041 (for banks and savings associations with domestic offices only), and FFIEC 051 (for banks and savings associations with domestic offices only and total assets less than $1 billion).

Frequency of Response: Quarterly.

Affected Public: Business or other for-profit.

OCC

OMB Control No.: 1557-0081.

Estimated Number of Respondents: 1,269 national banks and federal savings associations.

Estimated Average Burden per Response: 45.83 burden hours per quarter to file.

Estimated Total Annual Burden: 232,633 burden hours to file.

Board

OMB Control No.: 7100-0036.

Estimated Number of Respondents: 819 state member banks.

Estimated Average Burden per Response: 49.93 burden hours per quarter to file.

Estimated Total Annual Burden: 163,571 burden hours to file.

FDIC

OMB Control No.: 3064-0052.

Estimated Number of Respondents: 3,633 insured state nonmember banks and state savings associations.

Estimated Average Burden per Response: 43.83 burden hours per quarter to file.

Estimated Total Annual Burden: 636,938 burden hours to file.

The proposed burden-reducing revisions to the Call Reports are the result of an ongoing effort by the agencies to reduce the burden associated with their preparation and filing and, as detailed in Appendices B, C, and D, would achieve burden reductions by removing or consolidating numerous items, and by adding a new or raising certain existing reporting thresholds.

The estimated average burden hours for each agency collectively reflect the estimates for the FFIEC 031, the FFIEC 041, and the FFIEC 051 reports. When the estimates are calculated by type of report across the agencies, the estimated average burden hours per quarter are 122.38 (FFIEC 031), 55.35 (FFIEC 041), and 37.94 (FFIEC 051). The burden hours for the currently approved reports are 123.06 (FFIEC 031), 57.71 (FFIEC 041), and 39.38 (FFIEC 051),¹ so the revisions in this notice would represent a reduction in estimated average burden hours per quarter by 0.68 (FFIEC 031), 2.36 (FFIEC 041), and 1.44 (FFIEC 051). The estimated burden per response for the quarterly filings of the Call Report is an average that varies by agency because of differences in the composition of the institutions under each agency's supervision (e.g., size distribution of institutions, types of activities in which they are engaged, and existence of foreign offices).

¹ See 83 FR 939 (January 8, 2018).

Type of Review: Revision and extension of currently approved collections.

General Description of Reports

These information collections are mandatory pursuant to 12 U.S.C. 161 (for national banks), 12 U.S.C. 324 (for state member banks), 12 U.S.C. 1817 (for insured state nonmember commercial and savings banks), and 12 U.S.C. 1464 (for federal and state savings associations). At present, except for selected data items and text, these information collections are not given confidential treatment.

Abstract

Institutions submit Call Report data to the agencies each quarter for the agencies' use in monitoring the condition, performance, and risk profile of individual institutions and the industry as a whole. Call Report data serve a regulatory or public policy purpose by assisting the agencies in fulfilling their shared missions of ensuring the safety and soundness of financial institutions and the financial system and the protection of consumer financial rights, as well as agency-specific missions affecting federal and state-chartered institutions, such as conducting monetary policy, ensuring financial stability, and administering federal deposit insurance. Call Reports are the source of the most current statistical data available for identifying areas of focus for on-site and off-site examinations. Among other uses, the agencies use Call Report data in evaluating institutions' corporate applications, including, in particular, interstate merger and acquisition applications for which the agencies are required by law to determine whether the resulting institution would control more than 10 percent of the total amount of deposits of insured depository institutions in the United States. Call Report data also are used to calculate institutions' deposit insurance and Financing Corporation assessments and national banks' and federal savings associations' semiannual assessment fees.

Current Actions

I. Introduction

On November 8, 2017, the agencies requested comment for 60 days on a proposal to revise the existing Call Report requirements.² The proposed revisions in the November 2017 notice, as well as the creation of the FFIEC 051 and other recent revisions to the FFIEC 031 and FFIEC 041, are the result of a formal initiative launched by the FFIEC in December 2014 to identify potential opportunities to reduce burden associated with Call Report requirements for community institutions. The most significant actions under this initiative are community institution outreach efforts, internal surveys of users of Call Report data at FFIEC member entities, and the implementation of a streamlined Call Report for small institutions. A summary of the FFIEC member entities' uses of the data items retained in the Call Report schedules subject to the reporting revisions in this proposal is included in Appendix A, which is repeated from the November 2017 notice. Additional information about the initiative can be found in the November 2017 notice and five earlier notices related to actions taken under this initiative.³

² See 82 FR 51908 (November 8, 2017).

³ See 80 FR 56539 (September 18, 2015), 81 FR 45357 (July 13, 2016), 81 FR 54190 (August 15, 2016), 82 FR 2444 (January 9, 2017), and 82 FR 29147 (June 27, 2017).

The comment period for the November 2017 notice ended on January 8, 2018. General comments on the notice are summarized in Section II. In Section III, the agencies provide more details on the comments received. Section IV discusses the timing for implementing the proposed revisions to the Call Report.

II. General Comments on the Proposed Call Report Revisions

The agencies collectively received comments on the proposal from five entities, including banking organizations and a trade association. General comments and recommendations on the proposal and the overall burden-reduction initiative are included in this section. Comments with specific recommendations to revise the Call Reports are addressed in Section III.

A. General Comments on the Proposal and the Overall Burden-Reduction Initiative

Commenters expressed varying opinions on the November 2017 notice and the agencies' Call Report burden-reduction initiatives to date. Two commenters supported the effort put forth by the agencies. One commenter “strongly support[s] the FFIEC's ongoing work to reform the Call Report, an ongoing project that is yielding important value for supervision as well as for successful bank management.” The other commenter “commends” the agencies' initiative and encourages continued efforts to ease the burden on small community banks.

On the other hand, one commenter asserted that the proposed revisions to the Call Reports would not have any impact on the banking organization's reporting.

The agencies recognize that not all institutions would see an immediate and large reduction in burden from the proposed revisions in the November 2017 notice. However, consolidating existing data items into fewer data items and adding or increasing reporting thresholds would generally result in institutions spending less time completing the Call Report since there would be fewer items to review prior to each quarterly submission. Also, an institution would have fewer instructions to review to determine whether it has reportable (nonzero) amounts. To the extent that an institution currently tracks granular data items for internal reporting purposes that are proposed to be consolidated in the Call Report, there may be limited burden relief from consolidating the items. However, institutions that currently track data at an aggregate level for internal reporting purposes and then must allocate that amount to the existing subcategories in the Call Report every quarter would see additional burden relief. Accordingly, the agencies believe the changes proposed in the November 2017 notice offer meaningful Call Report burden relief to many institutions.

B. General Recommendations From Commenters

One commenter offered a number of recommendations to improve the revision and preparation of the Call Report. Regarding the revision process, the commenter recommended that the agencies conduct an internal user survey covering every item in the Call Report at least once every two years, conduct a review for potentially obsolete items at least annually, and continue to improve the clarity and usability of Call Report instructions. The agencies currently conduct the user survey as the foundation for a review of all Call Report data items they are required to conduct every five years.⁴ The full survey is an involved process requiring significant agency resources from all lines of business. For the statutorily mandated review of the Call Report completed in 2017, the full survey spanned a 19-month period. Accordingly, the agencies must balance the use of their resources for this effort compared with other efforts to improve supervision and reduce burden for institutions.

⁴ See Section 604 of the Financial Services Regulatory Relief Act of 2006.

With respect to the clarity and usability of the Call Report instructions, the agencies agree with the commenter that making the instructions clearer and providing examples of how to calculate amounts that may be more complex to report contribute to burden relief. The agencies welcome suggestions from bankers, industry associations, and others for specific improvements to and clarifications of the existing instructions, including where examples would be helpful. Input from these stakeholders and from agency examination staff has led to instructional improvements in the past and the agencies will continue to address specific suggestions for instructional improvements. The commenter also cited the benefits of hyperlinks to the rule or guidance on which particular instructions are based. The agencies have added hyperlinks to certain cited documents in the two sets of Call Report instructions.⁵ Going forward, the agencies will endeavor to use clearer language and expect to continue inserting hyperlinks when issuing new or updated Call Report instructions.

⁵ One set of Call Report instructions applies to the FFIEC 031 and FFIEC 041 reports and another set of instructions applies to the FFIEC 051 report.

The commenter also recommended that the agencies only propose revisions to the Call Report once a year, make those changes effective starting in the quarter ending March 31, and finalize those changes by the prior September 30 to allow banks sufficient lead time to implement the revisions. Prior to the recent revisions to streamline the Call Report, the agencies typically followed a schedule of making revisions only once per year, with the changes generally becoming effective for the March 31 report. The agencies plan to return to an annual schedule for future revisions that would be effective starting with the March 31 report, unless the revisions must be implemented at a different time due to changes in statute, regulation, or accounting standards.

The same commenter recommended that the FFIEC establish an industry advisory committee to develop advice and guidance on the Call Report, establish a regular process to address technical questions and changes to the Call Report, and provide training related to preparing the Call Report. The agencies plan to continue to offer outreach in connection with significant revisions to the Call Report, as they did with the adoption of the revised Schedule RC-R, Regulatory Capital, and the implementation of the FFIEC 051. The agencies also receive and respond to a number of reporting questions from individual institutions each quarter. Issues that could affect multiple institutions are often addressed through the Call Report Supplemental Instructions published quarterly or updates to the Call Report instruction books published as needed. Consistent with the PRA, the agencies also offer an opportunity for members of the banking industry to comment on proposed changes to the Call Report or to make any additional suggestions for improving, streamlining, or clarifying instructions to the Call Report.

The commenter also recommended that the agencies align the proposed revisions to the Call Report with revisions to the Board's FR Y-9C report for holding companies ⁶ and conduct a holistic review of other regulatory reports under the agencies' authority that rely on data collected in the Call Report. The commenter stated that having differences in reporting between the Call Report and FR Y-9C can create burden for reporting firms. The agencies agree that aligning proposed revisions to the Call Report with proposed revisions to comparable data items collected in the FR Y-9C report would reduce burden for reporting holding companies.⁷ The Board has approved burden-reducing revisions to the FR Y-9C that align with corresponding burden-reducing revisions that were effective with the March 31, 2017, Call Report.⁸ These FR Y-9C revisions will become effective as of the March 31, 2018, reporting date. The Board also has proposed revisions to the FR Y-9C ⁹ that align with the corresponding revisions to the Call Report that the banking agencies proposed in June 2017.¹⁰ These revisions are proposed to become effective as of the March 31, 2018, and June 30, 2018, reporting dates for both the FR Y-9C and Call Report. Further, the Board will take this comment into consideration when it develops additional proposed revisions to the FR Y-9C report consistent with other comparable revisions proposed for the Call Report. In addition to the FR Y-9C, the agencies will consider reviewing how data from the Call Report are used in other agency reports to identify possible efficiencies as part of a holistic review.

⁶ Consolidated Financial Statements for Holding Companies, OMB No. 7100-0128.

⁷ Although all insured depository institutions must file Call Reports, not all such institutions are owned or controlled by a holding company. Furthermore, the FR Y-9C report is filed only by top-tier holding companies with total consolidated assets of $1 billion or more and top-tier holding companies meeting certain criteria, regardless of size.

⁸ See 83 FR 2985 (January 22, 2018).

⁹ See 83 FR 123 (January 2, 2018).

¹⁰ See 82 FR 29147 (June 27, 2017).

Furthermore, the agencies will consider reviewing existing instructions to other regulatory reports to identify opportunities to enhance uniformity in reporting guidance. In this regard, the agencies have already proposed revisions to the FFIEC 002 report that would align with corresponding revisions that have been implemented or proposed for the Call Report.¹¹ Similarly, in the proposed new FFIEC 016 report that would replace the separate, but identical, agency stress test reports,¹² the agencies have proposed revisions to certain data items in this new report that align with corresponding Call Report revisions that have been implemented or proposed.

¹¹ Report of Assets and Liabilities of U.S. Branches and Agencies of Foreign Banks (FFIEC 002). See 82 FR 61294 (December 27, 2017).

¹² Annual Dodd-Frank Act Company-Run Stress Test Report for Depository Institutions and Holding Companies with $10-$50 Billion in Total Consolidated Assets (FFIEC 016). See 82 FR 46887 (October 6, 2017) and 83 FR 8149 (February 23, 2018).

The commenter further recommended that the agencies increase the asset-size threshold for filing the FFIEC 051 Call Report from the current $1 billion to at least $10 billion, indexed for inflation. Raising the threshold to $10 billion or higher at this time could result in a significant loss of data necessary for supervisory or other purposes from institutions with assets of $1 billion or more. Therefore, the agencies are not adopting this recommendation at this time, but will continue to evaluate the appropriate scope and criteria for expanding the number of institutions eligible to file the FFIEC 051.

III. Specific Recommendations To Revise the Call Report

One commenter requested the agencies eliminate certain deposit items in Schedule RC-E by combining items for deposits with balances less than $100,000 and those with balances of $100,000 through $250,000 into a single item. Separate reporting of time deposits with balances less than $100,000 in Schedule RC-E, including certain Memorandum items to adjust that amount, is tied to the Board's measurement of the money supply.¹³ If the Board were to decide to revise the definition of the money supply so that the $100,000 items in Schedule RC-E are no longer necessary for the calculation, then the agencies would reevaluate whether to consolidate those items on the Call Report.

¹³ See definition of M2, https://www.federalreserve.gov/faqs/money_12845.htm. Also see 82 FR 2452 (January 9, 2017) for the agencies' previous response to a similar comment.

One commenter recommended that the agencies add a new loan item to Schedule RC-C, Part I, to enable institutions to report non-speculative 1-4 family residential construction loans to consumers separately from other 1-4 family residential construction loans.¹⁴ The commenter made this recommendation because the loan mix index used in the FDIC's deposit insurance assessment rate determination for small institutions treats all construction and development loans in the same manner. According to the commenter, consumer 1-4 family residential construction loans have lower charge-off rates than other types of construction and development loans, which penalizes institutions that hold significant amounts of such consumer construction loans in terms of their assessment rates. However, the addition to Schedule RC-C, Part I, of the recommended new construction loan category would not alter the assessment rate determination. Absent the segregation by the FDIC of consumer 1-4 family residential construction loans from other construction loans in the loan mix index in the FDIC's deposit insurance assessments regulations (12 CFR part 327), the agencies do not plan to add a new category for reporting such loans in Schedule RC-C, Part I.

¹⁴ All 1-4 family residential construction loans are reported in Schedule RC-C, Part I, item 1.a.(1). Other construction loans and all land development and other land loans are reported in Schedule RC-C, Part I, item 1.a.(2).

After considering these specific comments, as well as the comments received on the overall proposal and the burden-reduction initiative that were discussed in Section II above, the agencies will proceed with the proposed burden-reducing changes to Call Report schedules proposed in the November 2017 notice. The agencies recognize that not every proposed change will reduce burden for every institution. However, the agencies believe that the proposed changes will reduce burden in the Call Reports as a whole, which is also reflected in a reduction in the estimated burden hours per quarter for the Call Reports.

IV. Timing

Subject to OMB approval, the effective date for the implementation of the proposed revisions to the FFIEC 031, FFIEC 041, and FFIEC 051 would be June 30, 2018. When implementing the burden-reducing Call Report revisions as of the June 30, 2018, report date, institutions may provide reasonable estimates for any new or revised Call Report data item initially required to be reported as of that date for which the requested information is not readily available. The specific wording of the captions for the new or revised Call Report data items discussed in this proposal and the numbering of these data items is subject to change.

V. Request for Comment

Public comment is requested on all aspects of this joint notice. Comment is specifically invited on:

(a) Whether the proposed revisions to the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies. All comments will become a matter of public record.

Appendix A

Summary of the FFIEC Member Entities' Uses of the Data Items in the Call Report Schedules in the Portion of the User Surveys Evaluated in the Development of This Proposal

Schedule RI-A (Changes in Bank Equity Capital)

Schedule RI-A collects detailed information about specified categories of changes in an institution's equity capital during the calendar year to date. In general, these categories are aligned with categories typically reported on a basic statement of changes in equity in a set of financial statements prepared under U.S. generally accepted accounting principles (GAAP).

The FFIEC member entities' examiners use the Schedule RI-A information in their off-site reviews to identify and understand the sources of any significant changes in an institution's capital accounts. Information on dividends declared as a percentage of net income reveals the extent to which capital is being augmented through earnings retention, which is the principal source of capital for most institutions. The banking agencies may be aware of some capital transactions reported in Schedule RI-A due to licensing requirements. However, for many other transactions directly affecting capital such as dividends declared and transactions with a parent holding company, Schedule RI-A may be the only source of information on changes in capital aside from an on-site examination. Even for capital transactions that require prior agency approval, the information reported in Schedule RI-A serves as confirmation that the institution successfully completed the transaction (such as issuing new stock or redeeming existing preferred stock). The agencies also use the information on this schedule as a starting point for reviewing compliance with statutory or regulatory restrictions on dividends or holding company transactions.

The FDIC uses data items from Schedule RI-A in its estimates of losses from failures of insured depository institutions, which affects the FDIC's loss reserve and the resulting level of the balance in the Deposit Insurance Fund.

Schedule RI-C (Disaggregated Data on the Allowance for Loan and Lease Losses) [FFIEC 031 and FFIEC 041 Only]

Schedule RI-C provides information on the components of the allowance for loan and lease losses (ALLL) by loan category disaggregated on the basis of a reporting institution's impairment measurement method and the related recorded investment in loans (and, as applicable, leases) held for investment for institutions with $1 billion or more in total assets. The information required to be reported in Schedule RI-C is consistent with disclosures required under existing U.S. GAAP in Financial Accounting Standards Board (FASB) Accounting Standards Codification (ASC) paragraphs 310-10-50-11B(g) and (h).

By providing this level of detail on an individual institution's overall ALLL, which supports the identification of changes in its components over time, examiners can better perform off-site monitoring of activity within the ALLL in periods between examinations and when planning for examinations. Thus, the Schedule RI-C information enables examiners and agency analysts to determine whether the institution is releasing loan loss allowances in some loan categories and building allowances in others. Furthermore, changes from period to period in the volume of individually evaluated loans that have been determined to be impaired in each loan category, and the allowance allocations to these impaired loans, provide examiners and analysts with an indicator of trends in the institution's credit quality. This understanding is critical to the agencies since the ALLL, and the direction of changes in its composition, is one of the key factors in determining an institution's financial condition.

The detailed ALLL information collected in Schedule RI-C allows the agencies to more finely focus efforts related to the analysis of the ALLL and credit risk management. By reviewing the data collected in Schedule RI-C on allowance allocations by loan category in conjunction with the past due and nonaccrual data reported by loan category (in Schedule RC-N) that are used in a general assessment of an institution's credit risk exposures, the agencies can better evaluate whether the overall level of its ALLL, and its allocations by loan category, appear appropriate or whether supervisory follow-up is warranted. Together, the ALLL information and past due and nonaccrual data factor into the assessment of the Asset Quality component of the CAMELS rating.¹⁵ As an example, by using the detailed information on the ALLL allocated to commercial real estate (CRE) loans, examiners and analysts can better understand how institutions with CRE concentrations are building or releasing allowances, the extent of ALLL coverage in relation to their CRE portfolios, and how this might differ among institutions.

¹⁵ CAMELS is an acronym that represents the ratings from six essential components of an institution's financial condition and operations: Capital adequacy, asset quality, management, earnings, liquidity, and sensitivity to market risk. These components represent the primary areas evaluated by examiners during examinations of institutions.

Schedule RI-C also assists the agencies in understanding industry trends related to the build-up or release of allowances for specific loan categories. The information supports comparisons of ALLL levels by loan category, including the identification of differences in ALLL allocations by institution size. Understanding how institutions' ALLL practices and allocations differ over time for particular loan categories as economic conditions change provides insight that can be used to more finely tune supervisory procedures and policies.

Schedule RC-A (Cash and Balances Due From Depository Institutions) [FFIEC 031 and FFIEC 041 Only]

Schedule RC-A provides data on currency and coin, cash items, balances due from U.S. and foreign depository institutions, and balances due from Federal Reserve Banks. This information, particularly from larger institutions, is utilized for monetary policy purposes and liquidity analysis purposes.

For monetary policy purposes, information from Schedule RC-A is needed for analysis of the relationship between institutions' cash assets and the federal funds market, and in the construction of the monetary aggregates and weekly estimates of cash assets. The Board, in conducting monetary policy, monitors shifts between cash accounts and federal funds as a measure of the effectiveness of policy initiatives. For example, differences in interest rates paid on balances due from Federal Reserve Banks compared to those available in the federal funds market cause shifts in the relative volumes of funds institutions hold in their Federal Reserve Bank accounts and federal funds sold. This can be seen in the significant shrinkage in the federal funds market over the past ten years that has been offset by increases in cash assets held. As monetary policy normalizes and rates in the federal funds market increase, data in Schedule RC-A will allow the Board to analyze how cash assets would change as the federal funds market responds to the movement in rates.

Schedule RC-A data also serve as inputs into the construction of the monetary aggregates and in deriving estimates of cash assets on a weekly frequency. Cash items reported in item 1 are utilized as netting components in constructing the monetary aggregates. Items for cash and balances due from depository institutions are utilized to benchmark comparable weekly data collected by the Board from a sample of both small and large depository institutions. These weekly estimates provide timely input for more effective monitoring of institutions' cash asset positions.

Schedule RC-A provides information about the most liquid balance sheet accounts available to satisfy unexpected cash outflows. Thus, information reported on balances due from depository institutions, including those representing correspondent banking balances, are a key element in the agencies' analysis of an institution's management of liquidity risk. Such balances serve to pay the institution's daily cash letters and must be maintained at sufficient levels to cover these obligations in the normal course of business. At the same time, information from Schedule RC-A is particularly important for the agencies' evaluations of an institution's ability to effectively respond to liquidity stress. Although other balance sheet assets, such as debt securities, are secondary sources of liquidity under normal operating conditions, examiners consider the availability of on-balance sheet cash and due from balances under a highly stressed operating environment. Given the volatility of liability funding sources, agency supervisory staff assess the demands of a potential liquidity crisis in comparison to the availability of funds from due from balances. Because the amount of liquid assets that an institution should maintain is a function of the stability of its funding structure and the risk characteristics of its balance sheet and off-balance sheet activities, examiners monitor the level of cash and due from balances, and changes therein from period to period, by using data from Schedule RC-A as part of their off-site analyses of liquidity risk. The results of these analyses may influence the supervisory strategy for an institution and is an input into examination planning activities necessary for scoping and staffing the evaluation of liquidity and funds management during examinations.

The separate breakout of balances due from banks in foreign countries and foreign central banks in Schedule RC-A also aids the agencies in assessing liquidity risk arising from additional or distinct banking laws and regulations in foreign countries and in evaluating the currency risk and country risk associated with these balances.

Schedule RC-F (Other Assets)

Schedule RC-F collects a breakdown of assets not reported in other balance sheet asset categories, such as deferred tax assets, equity securities without readily determinable fair values, and life insurance assets. This information is used in off-site monitoring and for pre-examination planning. A trend of rapid growth in or a significant change in the reported amount of an individual category of other assets that is identified through off-site monitoring may represent an area of potential concern or heightened risk and require further review and assessment, either upon identification or at the next examination.

For example, a significant increase in the level of accrued interest receivable may be indicative of deterioration in the repayment capacity of an institution's borrowers or a relaxation of management's loan collection policies and practices, which would signal an increase in overall credit risk. Growth in the amount of net deferred tax assets, particularly at an institution with cumulative losses in recent years, raises questions about the realizability of these assets and whether the need for a valuation allowance has been properly assessed. The importance of ensuring the appropriateness of the reported amount of these assets is also tied to the deductions and limits that apply to deferred tax assets under the agencies' regulatory capital rules. Examiners use information on the volume of interest-only strips receivable in their pre-examination scoping of an institution's interest rate risk to determine the extent of this risk in preparation for an on-site assessment. Because bank-owned life insurance exposes an institution to liquidity, operational, credit, interest rate, and other risks, examiners need to identify significant holdings of life insurance assets and growth in such holdings. In these circumstances, examiners evaluate management's adherence to prudent concentration limits for life insurance assets and management's performance of comprehensive assessments of the risks of these assets, either on an off-site basis or during examinations.

Information on those individual components of all other assets that exceed the Schedule RC-F disclosure threshold helps examiners evaluate the significance of these items to the overall composition of the balance sheet and identify risk exposures associated with these assets. For example, when examiners find the reported amount of repossessed assets at an institution to be increasing, these data, taken together with data on the volume of past due and nonaccrual loans reported in Schedule RC-N, may signal credit deterioration and the need for examiner follow-up with management. Data on repossessed assets also are used for the scoping of targeted consumer compliance examinations, particularly with respect to auto loan origination and servicing.

Data on accrued interest receivable also are used in the FDIC's model that estimates losses arising from the failure of problem institutions, which affects the measurement of the balance of the Deposit Insurance Fund.

Schedule RC-G (Other Liabilities)

Schedule RC-G collects a breakdown of liabilities not reported in other balance sheet liability categories, such as interest accrued and unpaid on deposits, net deferred tax liabilities, and the allowance for credit losses on off-balance sheet exposures. As with the other assets data collected in Schedule RC-F, information reported in Schedule RC-G is used in off-site monitoring and for pre-examination planning. A trend of rapid growth in or a significant change in the reported amount of an individual category of other liabilities that is identified through off-site monitoring may represent an area of potential concern or heightened risk and require further review and assessment, either upon identification or at the next examination.

For example, a significant increase or decrease in the interest accrued and unpaid on deposits would warrant examiner follow-up to determine the cause for this change from previous levels because it could indicate a change in an institution's funding strategy with a consequential effect on its future earnings and its interest rate risk exposure. Examiner assessments of material increases in the allowance for off-balance sheet credit exposures are performed to determine whether this reflects credit quality deterioration on the part of existing customers to whom credit has been extended, a loosening of underwriting practices for granting or renewing lines of credit, or other factors, especially at banks with significant credit card operations or other unfunded commitments.

Information on those individual components of all other liabilities that exceed the Schedule RC-G disclosure threshold helps examiners evaluate the significance of these items to the overall composition of the balance sheet and identify risk exposures associated with these liabilities. For example, an increase in the amount of derivatives with negative fair values, considering changes in the notional amounts of derivatives reported in Schedule RC-L (on the FFIEC 031 or FFIEC 041) or Schedule SU (on the FFIEC 051), would lead to examiner review of an institution's hedging activities and their effectiveness in offsetting identified hedged risks or its strategy for entering into derivatives transactions for purposes other than hedging because of the resulting negative impact on earnings. Because deferred compensation liabilities create funding obligations, growth in the amount of these liabilities that triggers disclosure in Schedule RC-G warrants examiner review to ensure that management is properly planning for the funding mechanisms to be used to satisfy these compensation arrangements.

Data on interest accrued and unpaid on deposits also are used in the FDIC's model that estimates losses arising from the failure of problem institutions, which affects the measurement of the Deposit Insurance Fund.

Schedule RC-H (Selected Balance Sheet Items for Domestic Offices) [FFIEC 031 Only]

Schedule RC-H provides data on selected balance sheet items held in domestic offices only, and complements domestic office information collected in Schedule RC-C, Part I (Loans and Leases), Column B, and in Schedule RC-A (Cash and Balances Due from Depository Institutions), Column B. This domestic office level information is utilized for monetary policy and supervisory risk assessment purposes.

In general, Board policymakers set U.S. monetary policy to influence economic activity and financial market conditions in the United States. The domestic office components of the balance sheet items in Schedule RC-H and elsewhere in the Call Report are used in this context to assess credit availability, banks' funding patterns, liquidity, and investment strategies in the United States. For example, if the level of an institution's consolidated holdings of U.S. Treasury securities were increasing, but upon further review a significant portion of the growth reflected a rise in the amount of the institution's securities that are held in its foreign offices, such growth would not constitute direct support of either increased liquidity or a change in investment strategy at the institution's domestic offices. Moreover, in that case, such growth would not constitute an increase in the Board's U.S. bank credit aggregate, which is based on domestic-office-only holdings of institutions' securities and loans. Without the domestic-offices-only component of U.S. Treasury securities, the interpretation of increases in such securities holdings would be unnecessarily complicated; it would otherwise be unclear to policymakers, analysts, and others whether such growth had in fact reflected stimulation of the U.S. economy in the form of U.S. bank credit.

For institutions with foreign and domestic operations, the division of assets and funding between foreign and domestic components is a key element of an institution's risk profile. For example, the levels of funding and assets at such an institution that are subject to potentially more restrictive foreign laws and regulations and to currency risk and other transactional risks define a major portion of the institution's risk profile. In addition, data on the volume of assets and liabilities by balance sheet category in domestic versus foreign offices is essential for planning and staffing examinations of institutions with foreign offices.

Schedule RC-I (Assets and Liabilities of IBFs) [FFIEC 031 Only]

Schedule RC-I requires the reporting, on a fully consolidated basis, of the total assets and liabilities of all International Banking Facilities (IBFs) established by the reporting institution, i.e., including any IBFs established by the institution itself or by its Edge or Agreement subsidiaries. An IBF is a set of asset and liability accounts, segregated on the books and records of the establishing entity, which reflect permitted international transactions. IBF activities are essentially limited to accepting deposits from and extending credit to foreign residents (including banks), other IBFs, and the institutions establishing the IBF. The general purpose of the collection of these two Schedule RC-I data items is to aid in the planning of examinations on the risks and activities associated with international lending, financing instruments, and international banking conducted through an IBF. These two data items also serve as high level indicators of institutions' engagement in such activities between examinations. There is no other source of information on the total assets and liabilities of U.S. banking institutions' IBFs.

Schedule RC-P (1-4 Family Residential Mortgage Banking Activities in Domestic Offices) [FFIEC 031 and FFIEC 041 Only]

For institutions that meet an activity-based reporting threshold associated with their mortgage banking activities in domestic offices, Schedule RC-P provides data on their originations, purchases, and sales of closed-end and open-end 1-4 family residential mortgages during the quarter. Institutions providing data in Schedule RC-P also report the amount of closed-end and open-end 1-4 family residential mortgage loans held for sale or trading at quarter-end as well as the noninterest income for the quarter from the sale, securitization, and servicing of these mortgage loans. For open-end mortgage loans, institutions report the total commitment under the line of credit. These data are collected to enhance the agencies' ability to monitor the nature and extent of institutions' involvement with 1-4 family residential mortgage loans as originators, sellers, and servicers of such loans.

Since mortgage banking accounts for a large source of income at many institutions, concentrations of activities in this area pose several types of risks. These risks include operational, credit, interest rate, and liquidity risks, evaluations of which are critical in assigning appropriate CAMELS ratings for an institution. Therefore, the agencies monitor and analyze the Schedule RC-P data on institutions' mortgage banking activities to support their assessments of various risk components of CAMELS ratings. For example, 1-4 family residential mortgage banking activities may include an institution's obligation to repurchase mortgage loans that it has sold or otherwise indemnify the loan purchaser against loss due to borrower defaults, loan defects, other breaches of representations and warranties, or other reasons, thereby exposing the institution to additional risk. To monitor this exposure, Schedule RC-P collects data on 1-4 family residential mortgage loan repurchases and indemnifications during the quarter as well as representation and warranty reserves for such loans that have been sold. If off-site analysis of the reported data on repurchases and indemnifications reveals substantial increases in recent periods, this would be a red flag for supervisory questions about the credit and operational risks arising from the institution's mortgage loan originations and purchases as well as its ability to fund a higher level of loan repurchases going forward than it may be accustomed to repurchase. Examiner review of the appropriateness of the level of representation and warranty reserves and the institution's methodology for estimating the amount of these reserves also would be warranted.

In addition, the data reported in Schedule RC-P are used in the ongoing monitoring of the current volume, growth, and profitability of institutions' 1-4 family residential mortgage banking activities. In this regard, significant growth in these activities over a short period of time, particularly in relation to the size of an institution, raises supervisory concerns as to whether the institution has implemented appropriate risk management processes, controls, and governance over its mortgage banking business. The extent of the increased level of activity will determine the nature and timing of the supervisory follow-up. More generally, for examiners, the off-site monitoring of the Schedule RC-S data and related metrics and trends provides key information for examination scoping and helps determine the allocation of mortgage-banking specialists' time during on-site examinations.

A substantial volume of loans and other assets held for sale in a market where the assets may not be able to be readily sold can cause significant liquidity strain because of the institution's need for funding to carry these assets for a greater length of time than had been anticipated. Thus, the agencies use data from Schedule RC-P when assessing an institution's liquidity position by monitoring and analyzing the extent of mortgages held for sale or trading. If there is significant growth in the amount of such mortgage holdings, particularly when the Schedule RC-P data reveal larger amounts of originations and purchases compared to sales, this would be an indicator that the acquired loans are not selling and a basis for supervisory follow-up.

From a consumer compliance perspective, the agencies use Schedule RC-P data to monitor mortgage-related metrics for assessing potential risks to consumers, and for the scheduling and scoping of examinations. Additionally, the agencies rely on Schedule RC-P data for assessing an institution's product lines for compliance with the Community Reinvestment Act and other fair lending regulations, particularly if the institution engages in wholesale originations of mortgage loans.

Schedule RC-Q—Assets and Liabilities Measured at Fair Value on a Recurring Basis [FFIEC 031 and FFIEC 041 Only]

FASB ASC Topic 820, Fair Value Measurement, provides guidance on how to measure fair value and establishes a three-level hierarchy for measuring fair value. This hierarchy prioritizes inputs used to measure fair value based on observability, giving the highest priority to quoted prices in active markets for identical assets or liabilities (Level 1) and the lowest priority to unobservable inputs (Level 3).

Under ASC Subtopic 825-10, Financial Instruments—Overall, ASC Subtopic 815-15, Derivatives and Hedging—Embedded Derivatives, and ASC Subtopic 860-50, Transfers and Servicing—Servicing Assets and Liabilities, an institution may elect to report certain assets and liabilities at fair value with changes in fair value recognized in earnings. This election is generally referred to as the fair value option. Under U.S. GAAP, certain other assets and liabilities are required to be measured at fair value on a recurring basis.

Institutions that have elected to apply the fair value option or have reported $10 million or more in total trading assets in any of the four preceding calendar quarters must report in Schedule RC-Q the amount of assets and liabilities, by major categories, that are measured at fair value on a recurring basis in the financial statements, along with separate disclosure of the amount of such assets and liabilities whose fair values were estimated under each of the three levels of the FASB's fair value hierarchy.

Agency staff use the information on assets reported at fair value in Schedule RC-Q to calibrate and estimate the impact of regulatory capital policy, as well as evaluate contemplated capital policy changes. The agencies also use the Schedule RC-Q data (particularly the volume of fair value option assets and liabilities in relation to total assets and total capital, whether the volume has significantly increased, and whether the option has begun to be applied to new categories of assets or liabilities) to assist with planning the proper scoping and staffing of risk management safety and soundness examinations given the critical importance of robust risk management and control processes around fair value measurement. For available-for-sale securities and fair value option loans, agency staff can also compare the fair values reported in Schedule RC-Q with the amortized cost and unpaid principal balance, respectively, reported for these assets in the Call Report to understand the extent and direction of these measurement differences and their potential effect on regulatory capital should a substantial portion of these assets need to be sold. The agencies also use this information to evaluate the extent of Level 3 fair value measurements of certain assets and liabilities because of the extensive use of unobservable inputs to estimate these fair values, as well as to monitor trading asset valuations and shifts in the fair value hierarchy valuation levels among trading assets over time and across capital markets.

Information in Schedule RC-Q is also used by agency examination staff to analyze capital, asset quality, earnings, and liquidity components of CAMELS. The agencies also use data reported in Schedule RC-Q in credit risk management tools. Obtaining these data on a quarterly basis allows for closer monitoring of credit risk changes affecting assets measured at fair value. The data are also used to monitor bank performance, emerging trends, and certain mortgage servicing assets.

Schedule RC-S (Servicing, Securitization, and Asset Sale Activities) [FFIEC 031 and FFIEC 041]

Schedule RC-S collects data on servicing, securitization, and asset sale activities. The majority of these data represents off-balance sheet activities. The agencies use the data provided in this schedule primarily for risk identification and examination scoping purposes.

Exposures reported in Schedule RC-S can affect an institution's liquidity outlook. For example, if an institution has a commitment to provide liquidity to its own or other institutions' securitization structures or has provided credit enhancements in the form of recourse or standby letters of credit for assets it has sold or securitized, the agencies need to consider such funding commitments to properly monitor and assess the full scope of an institution's liquidity position. This schedule also captures past due amounts for loans the reporting institution has sold and securitized on which it has retained servicing or has provided recourse or other credit enhancements. This past due information, and trends in the past due amounts, are critical to the agencies' ability to evaluate the credit quality of the underlying assets in securitization structures on an off-site basis and timely identify any credit quality deterioration for supervisory follow-up, including, if applicable, the effect of increased servicing costs on current and forecasted earnings. Defaulting assets underlying securitization structures played a major role during the recent financial crisis, so it is imperative the agencies have the information necessary to continuously monitor the performance of these assets.

The agencies also use Schedule RC-S data to analyze whether an institution has adequate capital to cover losses arising from liquidity commitments or recourse obligations if the underlying assets in securitizations begin to default, especially in the event of an economic downturn. In addition, on an industry-wide basis, changes in the level of activity reported in the various items of this schedule enables the agencies to identify emerging trends within the securitization sector, which supports the development, as needed, of supervisory policies and related guidance for institutions and examiners.

Schedule RC-S is also used by the agencies to prepare for on-site examinations. Specifically, the level of activity reported in Schedule RC-S helps the agencies make examination resource decisions, such as whether capital markets or consumer compliance specialists are needed on-site. (Consumer compliance regulations apply to loans an institution continues to service after sale or securitization.) For example, in the event there are increasing amounts of past due loans that an institution has sold and securitized, additional resources can be allocated to examining the institution's lending policies and practices and internal controls.

Schedule RC-T (Fiduciary and Related Services)

Schedule RC-T collects data on fiduciary assets and accounts, income generated from those accounts and other fiduciary services, and related fiduciary activities. The amount of data reported in Schedule RC-T and the frequency of reporting varies depending on an institution's total fiduciary assets and its fiduciary income. The most detail, including income information, is provided quarterly by institutions that have more than $250 million in fiduciary assets or meet a fiduciary income test; other trust institutions report less information in Schedule RC-T annually as of December 31.

Trust services are an integral part of the banking business for more than 20 percent of all institutions. The granularity of the data in Schedule RC-T, especially for the types of managed assets held in fiduciary accounts, aids the agencies in determining the complexity of an institution's fiduciary services risk profile. Furthermore, the agencies use Schedule RC-T data to monitor changes in the volume and character of discretionary trust activity and the volume of nondiscretionary trust activity at a trust institution, which facilitates their assessment of the nature and risks of the institution's fiduciary activities. The institution's risk profile in these areas is considered during pre-examination planning to determine the appropriate scoping and staffing for trust examinations.

The Schedule RC-T data also are used when examiners consider the ratings to be assigned to trust institutions under the Uniform Interagency Trust Rating System (UITRS). The UITRS considers certain managerial, operational, financial, and compliance factors that are common to all institutions with fiduciary activities. Under this system, the supervisory agencies endeavor to ensure that all institutions with fiduciary activities are evaluated in a comprehensive and uniform manner, and that supervisory attention is appropriately focused on those institutions exhibiting weaknesses in their fiduciary operations.

Schedule RC-T provides a breakdown of the amount and number of managed and non-managed accounts by the types of different trust accounts. Personal trusts, employee benefit trusts, and corporate trusts are reported separately because of their substantive differences in nature and risk. Having a detailed breakdown between managed and non-managed accounts is critical because managed accounts have greater levels of investment, legal, reputational, and compliance risks compared to non-managed accounts, and require more supervisory oversight. This account information supports examination scoping and staffing because the evaluation of different types of trust accounts requires differences in expertise.

Data reported by larger trust institutions on fiduciary and related services income and on fiduciary settlements, surcharges, and other losses provide information on the overall profitability of the institution's fiduciary activities and supports the assessment of the Earnings component of the UITRS rating. These assessments consider such factors as the profitability of fiduciary activities in relation to the size and scope of the institution's trust product lines and its overall trust business. In addition, fiduciary settlements, surcharges, and other losses signal mishandling, operational failure, or fraud, which pose higher than normal risk exposure to the institution and raise questions for supervisory follow-up about the effectiveness of the institution's controls over its fiduciary activities. These data also are monitored off-site and used to make interim rating changes in the UITRS Earnings rating between scheduled examinations.

Data in the Schedule RC-T Memorandum items include the market values of managed assets held in fiduciary accounts by type of account and asset class and the number of collective investment funds and common trust funds and the market value of fund assets by type of fund. The exercise of investment discretion adds a significant element of risk to the administration of managed fiduciary accounts. The breakdowns by asset class and type of fund enable the agencies to monitor trends, both on a trust industry-wide basis and an individual trust institution basis, in how institutions with investment discretion are investing the assets of managed accounts and investment funds. The market value breakdowns of managed assets by asset class provide an indicator of complexity by separating more complex and hard-to-value assets that carry higher levels of risk from those assets that pose less risk. These data also contribute to effective examination scoping and staffing so that trust examiners can be assigned, and their time allocated, to examining those more complex and higher risk activities in which they have expertise. For example, the separately reported managed asset classes of real estate mortgages and real estate are distinctly different asset classes with different risk and return profiles, cash flows, and liquidity characteristics. Thus, concentrations in either of these asset classes may inform the supervisory strategy for managed fiduciary accounts, including the level of specialized expertise that may be required when there are concentrations in these asset classes.

Trust institutions also report the number of corporate and municipal debt issues for which the institution serves as trustee that are in substantive default and the outstanding principal amount of these debt issues. A substantive default occurs when the issuer fails to make a required payment of interest or principal, defaults on a required payment into a sinking fund, or is declared bankrupt or insolvent. The occurrence of a substantive default significantly raises the risk profile for the institution serving as an indenture trustee of a defaulted issue and can result in the incurrence of significant expenses and the distraction of managerial time and attention from other areas of trust administration. Thus, by monitoring the corporate trust data reported in Schedule RC-T between examinations, the agencies are able to identify changes in the risk profile of institutions acting as indenture trustees for timely supervisory follow-up and appropriate examination scoping and staffing.

The existence of fiduciary activities reported in Schedule RC-T may result in scoping certain areas of review into a consumer compliance examination, such as privacy and incentive-based cross-selling. The schedule also contains essential information for statistical and analytical purposes, including calculating the OCC assessments for independent trust banks.

Schedule RC-V (Variable Interest Entities) [FFIEC 031 and FFIEC 041 Only]

Schedule RC-V collects information on an institution's consolidated variable interest entities (VIEs) as defined by FASB ASC Topic 810, Consolidation. The data are used in determining the extent to which an institution's VIEs have been created as securitization vehicles to pool and repackage mortgages, other assets, or other credit exposures into securities that have been or can be transferred to investors or for other purposes. Examiners and reviewers can quantify the level of cash and noninterest-bearing balances, securities, loans, and other assets as well as liabilities tied to VIEs that are reflected in the amounts reported in the corresponding asset and liability categories on the parent institution's consolidated balance sheet. While securitization activities present many risks, the data on VIEs are particularly useful for monitoring and examining credit risk or the risk to earnings performance from the VIEs' activities. Depending on the volume of an institution's VIEs, VIE assets that can be used only to settle obligations of the consolidated VIEs can also impact off-site assessments of the parent institution's liquidity position given the restrictions on the use of the VIEs' assets for borrowing purposes. Thus, the analysis of amounts reported in Schedule RC-V assists with planning the proper scoping and staffing of examinations of institutions with activities conducted through VIEs.

Appendix B

FFIEC 051: To be completed by banks with domestic offices only and total assets less than $1 billion

Data Items Removed, Other Impacts to Data Items, or New or Increased Reporting Threshold

Data Items Removed

Schedule RC-A, Cash and Balances Due from Depository Institutions, removed.

Schedule | Item | Item name | MDRM No.
RC-B | 4.a.(1) | Residential mortgage pass-through securities: Guaranteed by GNMA (Columns A through D) | RCONG300, RCONG301, RCONG302, RCONG303.
RC-B | 4.a.(2) | Residential mortgage pass-through securities: Issued by FNMA and FHLMC (Columns A through D) Note: Items 4.a.(1) and 4.a.(2) of Schedule RC-B will be combined into one data item (new item 4.a) | RCONG304, RCONG305, RCONG306, RCONG307.
RC-F | 3.a | Interest-only strips receivable (not in the form of a security) on mortgage loans | RCONA519.
RC-F | 3.b | Interest-only strips receivable (not in the form of a security) on other financial assets Note: Items 3.a and 3.b of Schedule RC-F will be combined into one data item (new item 3) | RCONA520.
RC-F | 6.d | Retained interests in accrued interest receivable related to securitized credit cards | RCONC436.
SU | 8.e | Outstanding credit card fees and finance charges included in retail credit card receivables sold and securitized with servicing retained or with recourse or other seller-provided credit enhancements | RCONC407.

Other Impacts to Data Items

Schedule | Item | Item name | MDRM No.
RC-B | 4.a.(1) (New) | Residential mortgage pass-through securities: Issued or guaranteed by FNMA, FHLMC, or GNMA (Columns A through D) Note: Items 4.a.(1) and 4.a.(2) of Schedule RC-B will be combined into this data item | To be determined (TBD)—4 MDRM Numbers.
RC-F | 3 (New) | Interest-only strips receivable (not in the form of a security) Note: Items 3.a and 3.b of Schedule RC-F removed above will be combined into this data item | TBD.

Data Items With a New or Increased Reporting Threshold

Schedule RC-T: Increase the threshold for the exemption from reporting Schedule RC-T items 14 through 26, from institutions with fiduciary assets of $100 million or less to institutions with fiduciary assets of $250 million or less (that do not meet the fiduciary income test for quarterly reporting).

Schedule | Item | Item name | MDRM No.
RC-T | 14 | Income from personal trust and agency accounts | RIADB904
RC-T | 15.a | Income from employee benefit and retirement-related trust and agency accounts: Employee benefit—defined contribution | RIADB905.
RC-T | 15.b | Income from employee benefit and retirement-related trust and agency accounts: Employee benefit—defined benefit | RIADB906.
RC-T | 15.c | Income from employee benefit and retirement-related trust and agency accounts: Other employee benefit and retirement-related accounts | RIADB907.
RC-T | 16 | Income from corporate trust and agency accounts | RIADA479.
RC-T | 17 | Income from investment management and investment advisory agency accounts | RIADJ315.
RC-T | 18 | Income from foundation and endowment trust and agency accounts | RIADJ316.
RC-T | 19 | Income from other fiduciary accounts | RIADA480.
RC-T | 20 | Income from custody and safekeeping accounts | RIADB909.
RC-T | 21 | Other fiduciary and related services income | RIADB910.
RC-T | 22 | Total gross fiduciary and related services income | RIAD4070.
RC-T | 23 | Less: Expenses | RIADC058.
RC-T | 24 | Less: Net losses from fiduciary and related services | RIADA488.
RC-T | 25 | Plus: Intracompany income credits for fiduciary and related services | RIADB911.
RC-T | 26 | Net fiduciary and related services income | RIADA491.

To be completed by banks with collective investment funds and common trust funds with a total market value of $1 billion or more as of the preceding December 31.

Schedule | Item | Item name | MDRM No.
RC-T | M3.a | Collective investment funds and common trust funds: Domestic equity (Columns A and B) | RCONB931, RCONB932.
RC-T | M3.b | Collective investment funds and common trust funds: International/Global equity (Columns A and B) | RCONB933, RCONB934.
RC-T | M3.c | Collective investment funds and common trust funds: Stock/Bond blend (Columns A and B) | RCONB935, RCONB936
RC-T | M3.d | Collective investment funds and common trust funds: Taxable bond (Columns A and B) | RCONB937, RCONB938.
RC-T | M3.e | Collective investment funds and common trust funds: Municipal bond (Columns A and B) | RCONB939, RCONB940.
RC-T | M3.f | Collective investment funds and common trust funds: Short-term investments/Money market (Columns A and B) | RCONB941, RCONB942.
RC-T | M3.g | Collective investment funds and common trust funds: Specialty/Other (Columns A and B) | RCONB943, RCONB944.

Appendix C

FFIEC 041: To Be Completed by Banks With Domestic Offices Only and Consolidated Total Assets Less Than $100 Billion, Except Those Banks That File the FFIEC 051

Data Items Removed, Other Impacts to Data Items, or New or Increased Reporting Threshold

Data Items Removed

Schedule | Item | Item name | MDRM No.
RC-A | 2.a | Balances due from U.S. branches and agencies of foreign banks | RCON0083.
RC-A | 2.b | Balances due from other commercial banks in the U.S. and other depository institutions in the U.S Note: Items 2.a and 2.b of Schedule RC-A will be combined into one data item (new item 2) | RCON0085.
RC-A | 3.a | Balances due from foreign branches of other U.S. banks | RCON0073.
RC-A | 3.b | Balances due from other banks in foreign countries and foreign central banks Note: Items 3.a and 3.b of Schedule RC-A will be combined into one data item (new item 3) | RCON0074.
RC-F | 3.a | Interest-only strips receivable (not in the form of a security) on mortgage loans | RCONA519.
RC-F | 3.b | Interest-only strips receivable (not in the form of a security) on other financial assets Note: Items 3.a and 3.b of Schedule RC-F will be combined into one data item (new item 3) | RCONA520.
RC-F | 6.d | Retained interests in accrued interest receivable related to securitized credit cards | RCONC436.
RC-N | M5.b.(1) | Loans measured at fair value: Fair value (Columns A through C) | RCONF664, RCONF665, RCONF666.
RC-N | M5.b.(2) | Loans measured at fair value: Unpaid principal balance (Columns A through C) | RCONF667, RCONF668, RCONF669.
RC-P | 1.a | Retail originations during the quarter of 1-4 family residential mortgage loans for sale: Closed-end first liens | RCONF066.
RC-P | 1.b | Retail originations during the quarter of 1-4 family residential mortgage loans for sale: Closed-end junior liens | RCONF067.
RC-P | 1.c.(1) | Retail originations during the quarter of 1-4 family residential mortgage loans for sale: Open-end loans extended under lines of credit: Total commitment under the lines of credit Note: Items 1.a, 1.b, and 1.c.(1) of Schedule RC-P will be combined into one data item (new item 1) | RCONF670.
RC-P | 1.c.(2) | Retail originations during the quarter of 1-4 family residential mortgage loans for sale: Open-end loans extended under lines of credit: Principal amount funded under the lines of credit | RCONF671.
RC-P | 2.a | Wholesale originations and purchases during the quarter of 1-4 family residential mortgage loans for sale: Closed-end first liens | RCONF068.
RC-P | 2.b | Wholesale originations and purchases during the quarter of 1-4 family residential mortgage loans for sale: Closed-end junior liens | RCONF069.
RC-P | 2.c.(1) | Wholesale originations and purchases during the quarter of 1-4 family residential mortgage loans for sale: Open-end loans extended under lines of credit: Total commitment under the lines of credit Note: Items 2.a, 2.b, and 2.c.(1) of Schedule RC-P will be combined into one data item (new item 2) | RCONF672.
RC-P | 2.c.(2) | Wholesale originations and purchases during the quarter of 1-4 family residential mortgage loans for sale: Open-end loans extended under lines of credit: Principal amount funded under the lines of credit | RCONF673.
RC-P | 3.a | 1-4 family residential mortgage loans sold during the quarter: Closed-end first liens | RCONF070.
RC-P | 3.b | 1-4 family residential mortgage loans sold during the quarter: Closed-end junior liens | RCONF071.
RC-P | 3.c.(1) | 1-4 family residential mortgage loans sold during the quarter: Total commitment under the lines of credit Note: Items 3.a, 3.b, and 3.c.(1) of Schedule RC-P will be combined into one data item (new item 3) | RCONF674.
RC-P | 3.c.(2) | 1-4 family residential mortgage loans sold during the quarter: Principal amount funded under the lines of credit | RCONF675.
RC-P | 4.a | 1-4 family residential mortgage loans held for sale or trading at quarter-end: Closed-end first liens | RCONF072.
RC-P | 4.b | 1-4 family residential mortgage loans held for sale or trading at quarter-end: Closed-end junior liens | RCONF073.
RC-P | 4.c.(1) | 1-4 family residential mortgage loans held for sale or trading at quarter-end: Total commitment under the lines of credit Note: Items 4.a, 4.b, and 4.c.(1) of Schedule RC-P will be combined into one data item (new item 4) | RCONF676.
RC-P | 4.c.(2) | 1-4 family residential mortgage loans held for sale or trading at quarter-end: Principal amount funded under the lines of credit | RCONF677.
RC-P | 5.a | Noninterest income for the quarter from the sale, securitization, and servicing of 1-4 family residential mortgage loans: Closed-end 1-4 family residential mortgage loans | RIADF184.
RC-P | 5.b | Noninterest income for the quarter from the sale, securitization, and servicing of 1-4 family residential mortgage loans: Open-end 1-4 family residential mortgage loans extended under lines of credit Note: Items 5.a and 5.b of Schedule RC-P will be combined into one data item (new item 5) | RIADF560.
RC-P | 6.a | Repurchases and indemnifications of 1-4 family residential mortgage loans during the quarter: Closed-end first liens | RCONF678.
RC-P | 6.b | Repurchases and indemnifications of 1-4 family residential mortgage loans during the quarter: Closed-end junior liens | RCONF679.
RC-P | 6.c.(1) | Repurchases and indemnifications of 1-4 family residential mortgage loans during the quarter: Total commitment under the lines of credit Note: Items 6.a, 6.b, and 6.c.(1) of Schedule RC-P will be combined into one data item (new item 6) | RCONF680.
RC-P | 6.c.(2) | Repurchases and indemnifications of 1-4 family residential mortgage loans during the quarter: Principal amount funded under the lines of credit | RCONF681.
RC-Q | 2 | Federal funds sold and securities purchased under agreements to resell (Columns A through E) Note: Item 2 of Schedule RC-Q will be included in item 6, All other assets | RCONG478, RCONG479, RCONG480, RCONG481, RCONG482.
RC-Q | 9 | Federal funds purchased and securities sold under agreements to repurchase (Columns A through E) | RCONG507, RCONG508, RCONG509, RCONG510, RCONG511.
RC-Q | 11 | Other borrowed money (Columns A through E) | RCONG521, RCONG522, RCONG523, RCONG524, RCONG525.
RC-Q | 12 | Subordinated notes and debentures (Columns A through E) Note: Items 9, 11 and 12 of Schedule RC-Q will be included in item 13, All other liabilities | RCONG526, RCONG527, RCONG528, RCONG529, RCONG530.
RC-Q | M3.a.(1) | Loans measured at fair value: Construction, land development, and other land loans | RCONF578.
RC-Q | M3.a.(2) | Loans measured at fair value: Secured by farmland | RCONF579.
RC-Q | M3.a.(4) | Loans measured at fair value: Secured by multifamily (5 or more) residential properties | RCONF583.
RC-Q | M3.a.(5) | Loans measured at fair value: Secured by nonfarm nonresidential properties Note: Items M3.a.(1), M3.a.(2), M3.a.(4), and M3.a.(5) of Schedule RC-Q will be combined into one data item (new item M3.a.(2)) | RCONF584.
RC-Q | M3.a.(3)(a) | Loans measured at fair value: Revolving, open-end loans secured by 1-4 family residential properties and extended under lines of credit | RCONF580.
RC-Q | M3.a.(3)(b)(1) | Loans measured at fair value: Closed-end loans secured by 1-4 family residential properties: Secured by first liens | RCONF581.
RC-Q | M3.a.(3)(b)(2) | Loans measured at fair value: Closed-end loans secured by 1-4 family residential properties: Secured by junior liens Note: Items M3.a.(3)(a), M3.a.(3)(b)(1), and M3.a.(3)(b)(2) of Schedule RC-Q will be combined into one data item (new item M3.a.(1)) | RCONF582.
RC-Q | M3.c.(1) | Loans measured at fair value: Credit cards | RCONF586.
RC-Q | M3.c.(2) | Loans measured at fair value: Other revolving credit plans | RCONF587.
RC-Q | M3.c.(3) | Loans measured at fair value: Automobile loans | RCONK196.
RC-Q | M3.c.(4) | Loans measured at fair value: Other consumer loans Note: Items M3.c.(1), M3.c.(2), M3.c.(3), and M3.c.(4) of Schedule RC-Q will be combined into one data item (new item M3.c) | RCONK208.
RC-Q | M4.a.(1) | Unpaid principal balance of loans measured at fair value: Construction, land development, and other land loans | RCONF590.
RC-Q | M4.a.(2) | Unpaid principal balance of loans measured at fair value: Secured by farmland | RCONF591.
RC-Q | M4.a.(4) | Unpaid principal balance of loans measured at fair value: Secured by multifamily (5 or more) residential properties | RCONF595.
RC-Q | M4.a.(5) | Unpaid principal balance of loans measured at fair value: Secured by nonfarm nonresidential properties Note: Items M4.a.(1), M4.a.(2), M4.a.(4), and M4.a(5) of Schedule RC-Q will be combined into one data item (new item M4.a.(2)) | RCONF596.
RC-Q | M4.a.(3)(a) | Unpaid principal balance of loans measured at fair value: Revolving, open-end loans secured by 1-4 family residential properties and extended under lines of credit | RCONF592.
RC-Q | M4.a.(3)(b)(1) | Unpaid principal balance of loans measured at fair value: Closed-end loans secured by 1-4 family residential properties: Secured by first liens | RCONF593.
RC-Q | M4.a.(3)(b)(2) | Unpaid principal balance of loans measured at fair value: Closed-end loans secured by 1-4 family residential properties: Secured by junior liens Note: Items M4.a.(3)(a), M4.a.(3)(b)(1), and M4.a.(3)(b)(2) of Schedule RC-Q will be combined into one data item (new item M4.a.(1)) | RCONF594.
RC-Q | M4.c.(1) | Unpaid principal balance of loans measured at fair value: Credit cards | RCONF598.
RC-Q | M4.c.(2) | Unpaid principal balance of loans measured at fair value: Other revolving credit plans | RCONF599.
RC-Q | M4.c.(3) | Unpaid principal balance of loans measured at fair value: Automobile loans | RCONK195.
RC-Q | M4.c.(4) | Unpaid principal balance of loans measured at fair value: Other consumer loans Note: Items M4.c.(1), M4.c.(2), M4.c.(3), and M4.c.(4) of Schedule RC-Q will be combined into one data item (new item M4.c) | RCONK209.
RC-S | 1 | Outstanding principal balance of assets sold and securitized by the reporting bank with servicing retained or with recourse or other seller-provided credit enhancements (Columns B through F) Note: Item 1, Columns B through F, of Schedule RC-S will be included in item 1, Column G | RCONB706, RCONB707, RCONB708, RCONB709, RCONB710.
RC-S | 2.a | Maximum amount of credit exposure arising from recourse or other seller-provided credit enhancements provided to structures reported in item 1 in the form of: Credit-enhancing interest-only strips (Columns A through G) | RCONB712, RCONB713, RCONB714, RCONB715, RCONB716, RCONB717, RCONB718.
RC-S | 2.b | Maximum amount of credit exposure arising from recourse or other seller-provided credit enhancements provided to structures reported in item 1 in the form of: Subordinated securities and other residual interests (Columns A through G) | RCONC393, RCONC394, RCONC395, RCONC396, RCONC397, RCONC398, RCONC399.
RC-S | 2.c | Maximum amount of credit exposure arising from recourse or other seller-provided credit enhancements provided to structures reported in item 1 in the form of: Standby letters of credit and other enhancements (Columns A through G) Note: Items 2.a, 2.b, and 2.c, Columns A and G, of Schedule RC-S will be combined into one data item (new item 2) for Columns A and G | RCONC400, RCONC401, RCONC402, RCONC403, RCONC404, RCONC405, RCONC406.
RC-S | 3 | Reporting bank's unused commitments to provide liquidity to structures reported in item 1 (Columns A through G) | RCONB726, RCONB727, RCONB728, RCONB729, RCONB730, RCONB731, RCONB732.
RC-S | 4.a | Past due loan amounts included in item 1: 30-89 days past due (Columns B through F) Note: Item 4.a, Columns B through F, of Schedule RC-S will be included in item 4.a, Column G | RCONB734, RCONB735, RCONB736, RCONB737, RCONB738.
RC-S | 4.b | Past due loan amounts included in item 1: 90 days or more past due (Columns B through F) Note: Item 4.b, Columns B through F, of Schedule RC-S will be included in item 4.b, Column G | RCONB741, RCONB742, RCONB743, RCONB744, RCONB745.
RC-S | 5.a | Charge-offs and recoveries on assets sold and securitized with servicing retained or with recourse or other seller-provided credit enhancements: Charge-offs (Columns B through F) Note: Item 5.a, Columns B through F, of Schedule RC-S will be included in item 5.a, Column G | RIADB748, RIADB749, RIADB750, RIADB751, RIADB752.
RC-S | 5.b | Charge-offs and recoveries on assets sold and securitized with servicing retained or with recourse or other seller-provided credit enhancements: Recoveries (Columns B through F) Note: Item 5.b, Columns B through F, of Schedule RC-S will be included in item 5.b, Column G | RIADB755, RIADB756, RIADB757, RIADB758, RIADB759.
RC-S | 6.a | Amount of ownership (or seller's) interests carried as: Securities (Columns B, C, and F) | RCONB761, RCONB762, RCONB763.
RC-S | 6.b | Amount of ownership (or seller's) interests carried as: Loans (Columns B, C, and F) Note: Items 6.a and 6.b, Columns B, C, and F, of Schedule RC-S will be combined into one data item (new item 6) for Column G | RCONB500, RCONB501, RCONB502.
RC-S | 7.a | Past due loan amounts included in interests reported in item 6.a: 30-89 days past due (Columns B, C, and F) | RCONB764, RCONB765, RCONB766.
RC-S | 7.b | Past due loan amounts included in interests reported in item 6.a: 90 days or more past due (Columns B, C, and F) | RCONB767, RCONB768, RCONB769.
RC-S | 8.a | Charge-offs and recoveries on loan amounts included in interests reported in item 6.a: 30-89 days past due (Columns B, C, and F) | RIADB770, RIADB771, RIADB772.
RC-S | 8.b | Charge-offs and recoveries on loan amounts included in interests reported in item 6.a: 90 days or more past due (Columns B, C, and F) | RIADB773, RIADB774, RIADB775.
RC-S | 9 | Maximum amount of credit exposure arising from credit enhancements provided by the reporting bank to other institutions' securitization structures in the form of standby letters of credit, purchased subordinated securities, and other enhancements (Columns B through F) Note: Item 9, Columns B through F, of Schedule RC-S will be included in item 9, Column G | RCONB777, RCONB778, RCONB779, RCONB780, RCONB781.
RC-S | 10 | Reporting bank's unused commitments to provide liquidity to other institutions' securitization structures (Columns B through F) Note: Item 10, Columns B through F, of Schedule RC-S will be included in item 10, Column G | RCONB784, RCONB785, RCONB786, RCONB787, RCONB788.
RC-S | 11 | Assets sold with recourse or other seller-provided credit enhancements and not securitized by the reporting bank (Columns B through F) Note: Item 11, Columns B through F, of Schedule RC-S will be included in item 11, Column G | RCONB791, RCONB792, RCONB793, RCONB794, RCONB795.
RC-S | 12 | Maximum amount of credit exposure arising from recourse or other seller-provided credit enhancements provided to assets reported in item 11 (Columns B through F) Note: Item 12, Columns B through F, of Schedule RC-S will be included in item 12, Column G | RCONB798, RCONB799, RCONB800, RCONB801, RCONB802.
RC-S | M1.a | Small business obligations transferred with recourse under Section 208 of the Riegle Community Development and Regulatory Improvement Act of 1994: Outstanding principal balance Note: Item M.l.a of Schedule RC-S will be included in item 1 or item 11, Column G, as appropriate | RCONA249.
RC-S | M1.b | Small business obligations transferred with recourse under Section 208 of the Riegle Community Development and Regulatory Improvement Act of 1994: Amount of retained recourse on these obligations as of the report date Note: Item M.1.b of Schedule RC-S will be included in item 2 or 12, Column G, as appropriate | RCONA250.
RC-V | All data items reported for “ABCP Conduits” (Column B) | ABCP Conduits (Column B) Note: Data items currently reported for “ABCP Conduits” (Column B) will be included in the “Other VIEs” column (Column C, to be relabeled as Column B) of Schedule RC-V by line item, as reflected below | RCONJ982, RCONJ985, RCONJ988, RCONJ991, RCONJ994, RCONJ997, RCONK001, RCONK004, RCONK007, RCONK010, RCONK013, RCONK016, RCONK019, RCONK022, RCONK025, RCONK028, RCONK031, RCONK034.
RC-V | 1.b | Assets of consolidated variable interest entities (VIEs) that can be used only to settle obligations of the consolidated VIEs: Held-to-maturity securities (Columns A and C) | RCONJ984, RCONJ986.
RC-V | 1.c | Assets of consolidated variable interest entities (VIEs) that can be used only to settle obligations of the consolidated VIEs: Available-for-sale securities (Columns A and C) Note: Items 1.b and 1.c, Columns A and C, of Schedule RC-V will be combined into one data item (new item 1.b) for Columns A and C (the latter to be relabeled as Column B) | RCONJ987, RCONJ989.
RC-V | 1.d | Assets of consolidated variable interest entities (VIEs) that can be used only to settle obligations of the consolidated VIEs: Securities purchased under agreements to resell (Columns A and C) Note: Item 1.d, Columns A and C, of Schedule RC-V will be included in item 1.k, Other assets (renumbered as item 1.e), for Columns A and C (the latter to be relabeled as Column B) | RCONJ990, RCONJ992.
RC-V | 1.e | Assets of consolidated variable interest entities (VIEs) that can be used only to settle obligations of the consolidated VIEs: Loans and leases held for sale (Columns A and C) | RCONJ993, RCONJ995.
RC-V | 1.f | Assets of consolidated variable interest entities (VIEs) that can be used only to settle obligations of the consolidated VIEs: Loans and leases held for investment (Columns A and C) | RCONJ996, RCONJ998.
RC-V | 1.g | Assets of consolidated variable interest entities (VIEs) that can be used only to settle obligations of the consolidated VIEs: Less: Allowance for loan and lease losses (Columns A and C) Note: Items 1.e, 1.f, and 1.g, Columns A and C, of Schedule RC-V will be combined into one data item (new item 1.c) for Columns A and C (the latter to be relabeled as Column B) | RCONJ999, RCONK002.
RC-V | 1.h | Assets of consolidated variable interest entities (VIEs) that can be used only to settle obligations of the consolidated VIEs: Trading assets (other than derivatives) (Columns A and C) Note: Item 1.h, Columns A and C, of Schedule RC-V will be included in item 1.k, Other assets (renumbered as item 1.e), for Columns A and C (the latter to be relabeled as Column B) | RCONK003, RCONK005.
RC-V | 1.i | Assets of consolidated variable interest entities (VIEs) that can be used only to settle obligations of the consolidated VIEs: Derivative trading assets (Columns A and C) Note: Item 1.i, Columns A and C, of Schedule RC-V will be included in item 1.k, Other assets (renumbered as item 1.e), for Columns A and C (the latter to be relabeled as Column B) | RCONK006, RCONK008.
RC-V | 2.a | Liabilities of consolidated VIEs for which creditors do not have recourse to the general credit of the reporting bank: Securities sold under agreements to repurchase (Columns A and C) Note: Item 2.a, Columns A and C, of Schedule RC-V will be included in item 2.e, Other liabilities (renumbered as item 2.b), for Columns A and C (the latter to be relabeled as Column B) | RCONK015, RCONK017.
RC-V | 2.b | Liabilities of consolidated VIEs for which creditors do not have recourse to the general credit of the reporting bank: Derivative trading liabilities (Columns A and C) Note: Item 2.b, Columns A and C, of Schedule RC-V will be included in item 2.e, Other liabilities (renumbered as item 2.b), for Columns A and C (the latter to be relabeled as Column B) | RCONK018, RCONK020.
RC-V | 2.c | Liabilities of consolidated VIEs for which creditors do not have recourse to the general credit of the reporting bank: Commercial paper (Columns A and C) Note: Item 2.c, Columns A and C, of Schedule RC-V will be included in item 2.d, Other borrowed money (renumbered as item 2.a), for Columns A and C (the latter to be relabeled as Column B) | RCONK021, RCONK023.

Other Impacts to Data Items

Schedule | Item | Item name | MDRM No.
RC-A | 2 (New) | Balances due from depository institutions in the U.S. Note: Items 2.a. and 2.b of Schedule RC-A will be combined into this data item | RCON0082.
RC-A | 3 (New) | Balances due from banks in foreign countries and foreign central banks Note: Items 3.a. and 3.b of Schedule RC-A will be combined into this data item | RCON0070.
RC-F | 3 (New) | Interest-only strips receivable (not in the form of a security) Note: Items 3.a and 3.b of Schedule RC-F will be combined into this data item | To be determined (TBD).
RC-P | 1 (New) | Retail originations during the quarter of 1-4 family residential mortgage loans for sale Note: Items 1.a, 1.b, and 1.c.(1) of Schedule RC-P will be combined into this data item | TBD.
RC-P | 2 (New) | Wholesale originations and purchases during the quarter of 1-4 family residential mortgage loans for sale Note: Items 2.a, 2.b, and 2.c.(1) of Schedule RC-P will be combined into this data item | TBD.
RC-P | 3 (New) | 1-4 family residential mortgage loans sold during the quarter Note: Items 3.a, 3.b, and 3.c.(1) of Schedule RC-P will be combined into this data item | TBD.
RC-P | 4 (New) | 1-4 family residential mortgage loans held for sale or trading at quarter-end Note: Items 4.a, 4.b, and 4.c.(1) of Schedule RC-P will be combined into this data item | TBD.
RC-P | 5 (New) | Noninterest income for the quarter from the sale, securitization, and servicing of 1-4 family residential mortgage loans Note: Items 5.a and 5.b of Schedule RC-P will be combined into this data item | TBD.
RC-P | 6 (New) | Repurchases and indemnifications of 1-4 family residential mortgage loans during the quarter Note: Items 6.a, 6.b, and 6.c.(1) of Schedule RC-P will be combined into this data item | TBD.
RC-Q | M3.a.(1) (New) | Loans measured at fair value: Secured by 1-4 family residential properties Note: Items M3.a.(3)(a), M3.a.(3)(b)(1), and M3.a.(3)(b)(1) of Schedule RC-Q will be combined into this data item | TBD.
RC-Q | M3.a.(2) (New) | Loans measured at fair value: All other loans secured by real estate Note: Items M3.a.(1), M3.a.(2), M3.a.(4), and M3.a.(5) of Schedule RC-Q will be combined into this data item | TBD.
RC-Q | M3.c (New) | Loans measured at fair value: Loans to individuals for household, family, and other personal expenditures Note: Items M3.c.(1), M3.c.(2), M3.c.(3), and M3.c.(4) of Schedule RC-Q will be combined into this data item | TBD.
RC-Q | M4.a.(1) (New) | Unpaid principal balance of loans measured at fair value: Secured by 1-4 family residential properties Note: Items M4.a.(3)(a), M4.a.(3)(b)(1), and M4.a.(3)(b)(2) of Schedule RC-Q will be combined into this data item | TBD.
RC-Q | M4.a.(2) (New) | Unpaid principal balance of loans measured at fair value: All other loans secured by real estate Note: Items M4.a.(1), M4.a.(2), M4.a.(4), and M4.a.(5) of Schedule RC-Q will be combined into this data item | TBD.
RC-Q | M4.c (New) | Unpaid principal balance of loans measured at fair value: Loans to individuals for household, family, and other personal expenditures Note: Items M4.c.(1), M4.c.(2), M4.c.(3), and M4.c.(4) of Schedule RC-Q will be combined into this data item | TBD.
RC-S | 2 (New) | Maximum amount of credit exposure arising from recourse or other seller-provided credit enhancements provided to structures reported in item 1 (Columns A and G) Note: Items 2.a, 2.b, and 2.c, Columns A and G, of Schedule RC-S will be combined into this data item | TBD (2 MDRM Numbers).
RC-S | 6 (New) | Total amount of ownership (or seller's) interest carried as securities or loans (Columns B, C, and F) Note: Items 6.a and 6.b, Columns B, C, and F, of Schedule RC-S will be combined into this data item for Column G | TBD (3 MDRM Numbers).
RC-V | 1.b (New) | Assets of consolidated variable interest entities (VIEs) that can be used only to settle obligations of the consolidated VIEs: Securities (Columns A and C) Note: Items 1.b and 1.c, Columns A and C, of Schedule RC-V removed above will be combined into this data item for Columns A and C (the latter to be relabeled as Column B) | TBD (2 MDRM Numbers).
RC-V | 1.c (New) | Assets of consolidated variable interest entities (VIEs) that can be used only to settle obligations of the consolidated VIEs: Loans and leases held for investment, net of allowance, and held for sale (Columns A and C) Note: Items 1.e, 1.f, and 1.g, Columns A and C, of Schedule RC-V removed above will be combined into this data item for Columns A and C (the latter to be relabeled as Column B) | TBD (2 MDRM Numbers).
RC-V | 5 (New) | Total assets of asset-backed commercial paper (ABCP) conduit VIEs | TBD.
RC-V | 6 (New) | Total liabilities of ABCP conduit VIEs | TBD.

Data Items With a New or Increased Reporting Threshold

Schedule RC-P is to be completed by institutions where any of the following residential mortgage banking activities exceeds $10 million for two consecutive quarters:

• 1-4 family residential mortgage loan originations and purchases for resale from all sources during a calendar quarter; or

• 1-4 family residential mortgage loan sales during a calendar quarter; or

• 1-4 family residential mortgage loans held for sale or trading at calendar quarter-end.

Schedule RC-Q is to be completed by banks that: (1) Have elected to report financial instruments or servicing assets and liabilities at fair value under a fair value option with changes in fair value recognized in earnings, or (2) are required to complete Schedule RC-D, Trading Assets and Liabilities.

Schedule RC-T: Increase the threshold for the exemption from reporting Schedule RC-T, data items 14 through 26, from institutions with fiduciary assets of $100 million or less to institutions with fiduciary assets of $250 million or less (that do not meet the fiduciary income test for quarterly reporting).

Schedule | Item | Item name | MDRM No.
RC-T | 14 | Income from personal trust and agency accounts | RIADB904
RC-T | 15.a | Income from employee benefit and retirement-related trust and agency accounts: Employee benefit—defined contribution | RIADB905.
RC-T | 15.b | Income from employee benefit and retirement-related trust and agency accounts: Employee benefit—defined benefit | RIADB906.
RC-T | 15.c | Income from employee benefit and retirement-related trust and agency accounts: Other employee benefit and retirement-related accounts | RIADB907.
RC-T | 16 | Income from corporate trust and agency accounts | RIADA479.
RC-T | 17 | Income from investment management and investment advisory agency accounts | RIADJ315.
RC-T | 18 | Income from foundation and endowment trust and agency accounts | RIADJ316.
RC-T | 19 | Income from other fiduciary accounts | RIADA480.
RC-T | 20 | Income from custody and safekeeping accounts | RIADB909.
RC-T | 21 | Other fiduciary and related services income | RIADB910.
RC-T | 22 | Total gross fiduciary and related services income | RIAD4070.
RC-T | 23 | Less: Expenses | RIADC058.
RC-T | 24 | Less: Net losses from fiduciary and related services | RIADA488.
RC-T | 25 | Plus: Intracompany income credits for fiduciary and related services | RIADB911.
RC-T | 26 | Net fiduciary and related services income | RIADA491.

To be completed by banks with collective investment funds and common trust funds with a total market value of $1 billion or more as of the preceding December 31.

Schedule | Item | Item name | MDRM No.
RC-T | M3.a | Collective investment funds and common trust funds: Domestic equity (Columns A and B) | RCONB931, RCONB932.
RC-T | M3.b | Collective investment funds and common trust funds: International/Global equity (Columns A and B) | RCONB933, RCONB934.
RC-T | M3.c | Collective investment funds and common trust funds: Stock/Bond blend (Columns A and B) | RCONB935, RCONB936.
RC-T | M3.d | Collective investment funds and common trust funds: Taxable bond (Columns A and B) | RCONB937, RCONB938.
RC-T | M3.e | Collective investment funds and common trust funds: Municipal bond (Columns A and B) | RCONB939, RCONB940.
RC-T | M3.f | Collective investment funds and common trust funds: Short-term investments/Money market (Columns A and B) | RCONB941, RCONB942.
RC-T | M3.g | Collective investment funds and common trust funds: Specialty/Other (Columns A and B) | RCONB943, RCONB944.

To be completed by banks with $10 billion or more in total assets.

Schedule | Item | Item name | MDRM No.
RC-S | 6 (New) | Total amount of ownership (or seller's) interest carried as securities or loans (Column G) | TBD.
RC-S | 10 | Reporting bank's unused commitments to provide liquidity to other institutions' securitization structures (Columns A and G) | RCONB783, RCONB789.
RC-S | M3.a.(1) | Asset-backed commercial paper conduits: Maximum amount of credit exposure arising from credit enhancements provided to conduit structures in the form of standby letters of credit, subordinated securities, and other enhancements: Conduits sponsored by the bank, a bank affiliate, or the bank's holding company | RCONB806.
RC-S | M3.a.(2) | Asset-backed commercial paper conduits: Maximum amount of credit exposure arising from credit enhancements provided to conduit structures in the form of standby letters of credit, subordinated securities, and other enhancements: Conduits sponsored by other unrelated institutions | RCONB807.
RC-S | M3.b.(1) | Asset-backed commercial paper conduits: Unused commitments to provide liquidity to conduit structures: Conduits sponsored by the bank, a bank affiliate, or the bank's holding company | RCONB808.
RC-S | M3.b.(2) | Asset-backed commercial paper conduits: Unused commitments to provide liquidity to conduit structures: Conduits sponsored by other unrelated institutions | RCONB809.
RC-S | M4 | Outstanding credit card fees and finance charges included in Schedule RC-S, item 1, column C Note: With the combining of Columns B through F of item 1 of Schedule RC-S into item 1, Column G, of Schedule RC-S, the reference to column C in the caption for M4 will be changed to column G | RCONC407.

Appendix D

FFIEC 031: To Be Completed by Banks With Domestic and Foreign Offices and Banks With Domestic Offices Only and Consolidated Total Assets of $100 Billion or More

Data Items Removed, Other Impacts to Data Items, or New or Increased Reporting Threshold

Data Items Removed

Schedule | Item | Item name | MDRM No.
RC-A | 2.a | Balances due from U.S. branches and agencies of foreign banks (Column A) | RCFD0083.
RC-A | 2.b | Balances due from other commercial banks in the U.S. and other depository institutions in the U.S. (Column A) Note: Items 2.a and 2.b (Column A), of Schedule RC-A will be combined into one data item (new item 2) | RCFD0085.
RC-A | 3.a | Balances due from foreign branches of other U.S. banks (Column A) | RCFD0073.
RC-A | 3.b | Balances due from other banks in foreign countries and foreign central banks (Column A) Note: Items 3.a and 3.b (Column A), of Schedule RC-A will be combined into one data item (new item 3) | RCFD0074.
RC-F | 3.a | Interest-only strips receivable (not in the form of a security) on mortgage loans | RCFDA519.
RC-F | 3.b | Interest-only strips receivable (not in the form of a security) on other financial assets Note: Items 3.a and 3.b of Schedule RC-F will be combined into one data item (new item 3) | RCFDA520.
RC-F | 6.d | Retained interests in accrued interest receivable related to securitized credit cards | RCFDC436.
RC-N | M5.b.(1) | Loans measured at fair value: Fair value (Columns A through C) | RCFDF664, RCFDF665, RCFDF666.
RC-N | M5.b.(2) | Loans measured at fair value: Unpaid principal balance (Columns A through C) | RCFDF667, RCFDF668, RCFDF669.
RC-P | 1.a | Retail originations during the quarter of 1-4 family residential mortgage loans for sale: Closed-end first liens | RCONF066.
RC-P | 1.b | Retail originations during the quarter of 1-4 family residential mortgage loans for sale: Closed-end junior liens | RCONF067.
RC-P | 1.c.(1) | Retail originations during the quarter of 1-4 family residential mortgage loans for sale: Open-end loans extended under lines of credit: Total commitment under the lines of credit Note: Items 1.a, 1.b, and 1.c.(1) of Schedule RC-P will be combined into one data item (new item 1) | RCONF670.
RC-P | 1.c.(2) | Retail originations during the quarter of 1-4 family residential mortgage loans for sale: Open-end loans extended under lines of credit: Principal amount funded under the lines of credit | RCONF671.
RC-P | 2.a | Wholesale originations and purchases during the quarter of 1-4 family residential mortgage loans for sale: Closed-end first liens | RCONF068.
RC-P | 2.b | Wholesale originations and purchases during the quarter of 1-4 family residential mortgage loans for sale: Closed-end junior liens | RCONF069.
RC-P | 2.c.(1) | Wholesale originations and purchases during the quarter of 1-4 family residential mortgage loans for sale: Open-end loans extended under lines of credit: Total commitment under the lines of credit Note: Items 2.a, 2.b, and 2.c.(1) of Schedule RC-P will be combined into one data item (new item 2) | RCONF672.
RC-P | 2.c.(2) | Wholesale originations and purchases during the quarter of 1-4 family residential mortgage loans for sale: Open-end loans extended under lines of credit: Principal amount funded under the lines of credit | RCONF673.
RC-P | 3.a | 1-4 family residential mortgage loans sold during the quarter: Closed-end first liens | RCONF070.
RC-P | 3.b | 1-4 family residential mortgage loans sold during the quarter: Closed-end junior liens | RCONF071.
RC-P | 3.c.(1) | 1-4 family residential mortgage loans sold during the quarter: Total commitment under the lines of credit Note: Items 3.a, 3.b, and 3.c.(1) of Schedule RC-P will be combined into one data item (new item 3) | RCONF674.
RC-P | 3.c.(2) | 1-4 family residential mortgage loans sold during the quarter: Principal amount funded under the lines of credit | RCONF675.
RC-P | 4.a | 1-4 family residential mortgage loans held for sale or trading at quarter-end: Closed-end first liens | RCONF072.
RC-P | 4.b | 1-4 family residential mortgage loans held for sale or trading at quarter-end: Closed-end junior liens | RCONF073.
RC-P | 4.c.(1) | 1-4 family residential mortgage loans held for sale or trading at quarter-end: Total commitment under the lines of credit Note: Items 4.a, 4.b, and 4.c.(1) of Schedule RC-P will be combined into one data item (new item 4) | RCONF676.
RC-P | 4.c.(2) | 1-4 family residential mortgage loans held for sale or trading at quarter-end: Principal amount funded under the lines of credit | RCONF677.
RC-P | 5.a | Noninterest income for the quarter from the sale, securitization, and servicing of 1-4 family residential mortgage loans: Closed-end 1-4 family residential mortgage loans | RIADF184.
RC-P | 5.b | Noninterest income for the quarter from the sale, securitization, and servicing of 1-4 family residential mortgage loans: Open-end 1-4 family residential mortgage loans extended under lines of credit Note: Items 5.a and 5.b of Schedule RC-P will be combined into one data item (new item 5) | RIADF560.
RC-P | 6.a | Repurchases and indemnifications of 1-4 family residential mortgage loans during the quarter: Closed-end first liens | RCONF678.
RC-P | 6.b | Repurchases and indemnifications of 1-4 family residential mortgage loans during the quarter: Closed-end junior liens | RCONF679.
RC-P | 6.c.(1) | Repurchases and indemnifications of 1-4 family residential mortgage loans during the quarter: Total commitment under the lines of credit Note: Items 6.a, 6.b, and 6.c.(1) of Schedule RC-P will be combined into one data item (new item 6) | RCONF680.
RC-P | 6.c.(2) | Repurchases and indemnifications of 1-4 family residential mortgage loans during the quarter: Principal amount funded under the lines of credit | RCONF681.
RC-Q | M3.a | Loans measured at fair value: Loans secured by real estate (Column A) | RCFDF608.
RC-Q | M3.a.(1) | Loans measured at fair value: Construction, land development, and other land loans (Column B) | RCONF578.
RC-Q | M3.a.(2) | Loans measured at fair value: Secured by farmland (Column B) | RCONF579.
RC-Q | M3.a.(4) | Loans measured at fair value: Secured by multifamily (5 or more) residential properties (Column B) | RCONF583.
RC-Q | M3.a.(5) | Loans measured at fair value: Secured by nonfarm nonresidential properties (Column B) Note: Items M3.a.(1), M3.a.(2), M3.a.(4), and M3.a.(5), Column B, of Schedule RC-Q will be combined into one data item for the consolidated bank (new item M3.a.(2), Column A) | RCONF584.
RC-Q | M3.a.(3)(a) | Loans measured at fair value: Revolving, open-end loans secured by 1-4 family residential properties and extended under lines of credit (Column B) | RCONF580.
RC-Q | M3.a.(3)(b)(1) | Loans measured at fair value: Closed-end loans secured by 1-4 family residential properties: Secured by first liens (Column B) | RCONF581.
RC-Q | M3.a.(3)(b)(2) | Loans measured at fair value: Closed-end loans secured by 1-4 family residential properties: Secured by junior liens (Column B) Note: Items M3.a.(3)(a), M3.a.(3)(b)(1), and M3.a.(3)(b)(2), Column B, of Schedule RC-Q will be combined into one data item for the consolidated bank (new item M3.a.(1), Column A) | RCONF582.
RC-Q | M3.b | Loans measured at fair value: Commercial and industrial loans (Column B) | RCONF585.
RC-Q | M3.c.(1) | Loans measured at fair value: Credit cards (Columns A and B) | RCFDF586, RCONF586.
RC-Q | M3.c.(2) | Loans measured at fair value: Other revolving credit plans (Columns A and B) | RCFDF587, RCONF587.
RC-Q | M3.c.(3) | Loans measured at fair value: Automobile loans (Columns A and B) | RCFDK196, RCONK196.
RC-Q | M3.c.(4) | Loans measured at fair value: Other consumer loans (Columns A and B) Note: Items M3.c.(1), M3.c.(2), M3.c.(3), and M3.c.(4), Column A, of Schedule RC-Q will be combined into one data item for the consolidated bank (new item M3.c, Column A) | RCFDK208, RCONK208.
RC-Q | M3.d | Loans measured at fair value: Other loans (Column B) | RCONF589.
RC-Q | M4.a | Unpaid principal balance of loans measured at fair value: Loans secured by real estate (Column A) | RCFDF609.
RC-Q | M4.a.(1) | Unpaid principal balance of loans measured at fair value: Construction, land development, and other land loans (Column B) | RCONF590.
RC-Q | M4.a.(2) | Unpaid principal balance of loans measured at fair value: Secured by farmland (Column B) | RCONF591.
RC-Q | M4.a.(4) | Unpaid principal balance of loans measured at fair value: Secured by multifamily (5 or more) residential properties (Column B) | RCONF595.
RC-Q | M4.a.(5) | Unpaid principal balance of loans measured at fair value: Secured by nonfarm nonresidential properties (Column B) Note: Items M4.a.(1), M4.a.(2), M4.a.(4), and M4.a.(5), Column B, of Schedule RC-Q will be combined into one data item for the consolidated bank (new item M4.a.(2), Column A) | RCONF596.
RC-Q | M4.a.(3)(a) | Unpaid principal balance of loans measured at fair value: Revolving, open-end loans secured by 1-4 family residential properties and extended under lines of credit (Column B) | RCONF592.
RC-Q | M4.a.(3)(b)(1) | Unpaid principal balance of loans measured at fair value: Closed-end loans secured by 1-4 family residential properties: Secured by first liens (Column B) | RCONF593.
RC-Q | M4.a.(3)(b)(2) | Unpaid principal balance of loans measured at fair value: Closed-end loans secured by 1-4 family residential properties: Secured by junior liens (Column B) Note: Items M4.a.(3)(a), M4.a.(3)(b)(1), and M4.a.(3)(b)(2), Column B, of Schedule RC-Q will be combined into one data item for the consolidated bank (new item M4.a.(1), Column A) | RCONF594.
RC-Q | M4.b | Unpaid principal balance of loans measured at fair value: Commercial and industrial loans (Column B) | RCONF597.
RC-Q | M4.c.(1) | Unpaid principal balance of loans measured at fair value: Credit cards (Columns A and B) | RCFDF598, RCONF598.
RC-Q | M4.c.(2) | Unpaid principal balance of loans measured at fair value: Other revolving credit plans (Columns A and B) | RCFDF599, RCONF599.
RC-Q | M4.c.(3) | Unpaid principal balance of loans measured at fair value: Automobile loans (Columns A and B) | RCFDK195, RCONK195.
RC-Q | M4.c.(4) | Unpaid principal balance of loans measured at fair value: Other consumer loans (Columns A and B) Note: Items M4.c.(1), M4.c.(2), M4.c.(3) and M4.c.(4), Column A, of Schedule RC-Q will be combined into one data item for the consolidated bank (new item M4.c, Column A) | RCFDK209, RCONK209.
RC-Q | M4.d | Unpaid principal balance of loans measured at fair value: Other loans (Column B) | RCONF601.
RC-S | 2.a | Maximum amount of credit exposure arising from recourse or other seller-provided credit enhancements provided to structures reported in item 1 in the form of: Credit-enhancing interest-only strips (Columns A through G) | RCFDB712, RCFDB713, RCFDB714, RCFDB715, RCFDB716, RCFDB717, RCFDB718.
RC-S | 2.b | Maximum amount of credit exposure arising from recourse or other seller-provided credit enhancements provided to structures reported in item 1 in the form of: Subordinated securities and other residual interests (Columns A through G) | RCFDC393, RCFDC394, RCFDC395, RCFDC396, RCFDC397, RCFDC398, RCFDC399.
RC-S | 2.c | Maximum amount of credit exposure arising from recourse or other seller-provided credit enhancements provided to structures reported in item 1 in the form of: Standby letters of credit and other enhancements (Columns A through G) Note: Items 2.a, 2.b, and 2.c, Columns A through G, of Schedule RC-S will be combined into one data item (new item 2) for Columns A through G | RCFDC400, RCFDC401, RCFDC402, RCFDC403, RCFDC404, RCFDC405, RCFDC406.
RC-S | 6.a | Amount of ownership (or seller's) interests carried as: Securities (Columns B, C and F) | RCFDB761, RCFDB762, RCFDB763.
RC-S | 6.b | Amount of ownership (or seller's) interests carried as: Loans (Columns B, C and F) Note: Items 6.a and 6.b, Columns B, C, and F, of Schedule RC-S will be combined into one data item (new item 6) | RCFDB500, RCFDB501, RCFDB502.
RC-S | 7.a | Past due loan amounts included in interests reported in item 6.a: 30-89 days past due (Columns B, C, and F) | RCFDB764, RCFDB765, RCFDB766.
RC-S | 7.b | Past due loan amounts included in interests reported in item 6.a: 90 days or more past due (Columns B, C, and F) | RCFDB767, RCFDB768, RCFDB769.
RC-S | 8.a | Charge-offs and recoveries on loan amounts included in interests reported in item 6.a: 30-89 days past due (Columns B, C, and F) | RIADB770, RIADB771, RIADB772.
RC-S | 8.b | Charge-offs and recoveries on loan amounts included in interests reported in item 6.a: 90 days or more past due (Columns B, C, and F) | RIADB773, RIADB774, RIADB775.
RC-S | 9 | Maximum amount of credit exposure arising from credit enhancements provided by the reporting bank to other institutions' securitization structures in the form of standby letters of credit, purchased subordinated securities, and other enhancements (Columns B and C) Note: Item 9, Columns B and C, of Schedule RC-S will be included in item 9, Column G | RCFDB777, RCFDB778.
RC-S | 10 | Reporting bank's unused commitments to provide liquidity to other institutions' securitization structures (Columns B and C) Note: Item 10, Columns B and C, of Schedule RC-S will be included in item 10, Column G | RCFDB784, RCFDB785.
RC-S | 11 | Assets sold with recourse or other seller-provided credit enhancements and not securitized by the reporting bank (Columns B through F) Note: Item 11, Columns B through F, of Schedule RC-S will be included in item 11, Column G | RCFDB791, RCFDB792, RCFDB793, RCFDB794, RCFDB795.
RC-S | 12 | Maximum amount of credit exposure arising from recourse or other seller-provided credit enhancements provided to assets reported in item 11 (Columns B through F) Note: Item 12, Columns B through F, of Schedule RC-S will be included in item 12, Column G | RCFDB798, RCFDB799, RCFDB800, RCFDB801, RCFDB802.
RC-S | M1.a | Small business obligations transferred with recourse under Section 208 of the Riegle Community Development and Regulatory Improvement Act of 1994: Outstanding principal balance Note: Item M1.a of Schedule RC-S will be included in item 1 or item 11, Column F, as appropriate | RCFDA249.
RC-S | M1.b | Small business obligations transferred with recourse under Section 208 of the Riegle Community Development and Regulatory Improvement Act of 1994: Amount of retained recourse on these obligations as of the report date Note: Item M1.b of Schedule RC-S will be included in item 2 or item 12, Column F, as appropriate | RCFDA250.
RC-V | All data items reported for “ABCP Conduits” (Column B) | ABCP Conduits (Column B) Note: Data items currently reported for “ABCP Conduits” (Column B) will be included in the “Other VIEs” column (Column C, to be relabeled as Column B) of Schedule RC-V by line item, as reflected below | RCFDJ982, RCFDJ985, RCFDJ988, RCFDJ991, RCFDJ994, RCFDJ997, RCFDK001, RCFDK004, RCFDK007, RCFDK010, RCFDK013, RCFDK016, RCFDK019, RCFDK022, RCFDK025, RCFDK028, RCFDK031, RCFDK034.
RC-V | 1.b | Assets of consolidated variable interest entities (VIEs) that can be used only to settle obligations of the consolidated VIEs: Held-to-maturity securities (Columns A and C) | RCFDJ984, RCFDJ986.
RC-V | 1.c | Assets of consolidated variable interest entities (VIEs) that can be used only to settle obligations of the consolidated VIEs: Available-for-sale securities (Columns A and C) Note: Items 1.b and 1.c, Columns A and C, of Schedule RC-V will be combined into one data item (new item 1.b) for Columns A and C | RCFDJ987, RCFDJ989.
RC-V | 1.d | Assets of consolidated variable interest entities (VIEs) that can be used only to settle obligations of the consolidated VIEs: Securities purchased under agreements to resell (Columns A and C) Note: Item 1.d, Columns A and C, of Schedule RC-V will be included in item 1.k, Other assets (renumbered as item 1.b), for Columns A and C (the latter to be relabeled as Column B) | RCFDJ990, RCFDJ992.
RC-V | 1.e | Assets of consolidated variable interest entities (VIEs) that can be used only to settle obligations of the consolidated VIEs: Loans and leases held for sale (Column A and C) | RCFDJ993, RCFDJ995.
RC-V | 1.f | Assets of consolidated variable interest entities (VIEs) that can be used only to settle obligations of the consolidated VIEs: Loans and leases held for investment (Column A and C) | RCFDJ996, RCFDJ998.
RC-V | 1.g | Assets of consolidated variable interest entities (VIEs) that can be used only to settle obligations of the consolidated VIEs: Less: Allowance for loan and lease losses (Columns A and C) Note: Items 1.e, 1.f, and 1.g, Columns A and C, of Schedule RC-V will be combined into one data item (new item 1.c) for Columns A and C (the latter to be relabeled as Column B) | RCFDJ999, RCFDK002.
RC-V | 1.h | Assets of consolidated variable interest entities (VIEs) that can be used only to settle obligations of the consolidated VIEs: Trading assets (other than derivatives) (Columns A and C) Note: Item 1.h, Columns A and C, of Schedule RC-V will be included in item 1.k (renumbered as item 1.e), Other assets, for Columns A and C (the latter to be relabeled as Column B) | RCFDK003, RCFDK005.
RC-V | 1.i | Assets of consolidated variable interest entities (VIEs) that can be used only to settle obligations of the consolidated VIEs: Derivative trading assets (Columns A and C) Note: Item 1.i, Columns A and C, of Schedule RC-V will be included in item 1.k, Other assets (renumbered as item 1.e), for Columns A and C (the latter to be relabeled as Column B) | RCFDK006, RCFDK008.
RC-V | 2.a | Liabilities of consolidated VIEs for which creditors do not have recourse to the general credit of the reporting bank: Securities sold under agreements to repurchase (Columns A and C) Note: Item 2.a, Columns A and C, of Schedule RC-V will be included in item 2.e, Other liabilities (renumbered as item 2.b), for Columns A and C (the latter to be relabeled as Column B) | RCFDK015, RCFDK017.
RC-V | 2.b | Liabilities of consolidated VIEs for which creditors do not have recourse to the general credit of the reporting bank: Derivative trading liabilities (Columns A and C) Note: Item 2.b, Columns A and C, of Schedule RC-V will be included in item 2.e, Other liabilities (renumbered as item 2.b), for Columns A and C (the latter to be relabeled as Column B) | RCFDK018, RCFDK020.
RC-V | 2.c | Liabilities of consolidated VIEs for which creditors do not have recourse to the general credit of the reporting bank: Commercial paper (Columns A and C) Note: Item 2.c, Columns A and C, of Schedule RC-V will be included in item 2.d, Other borrowed money (renumbered as item 2.a), for Columns A and C (the latter to be relabeled as Column B) | RCFDK021, RCFDK023.

Other Impacts to Data Items

Schedule | Item | Item name | MDRM No.
RC-A | 2 (New) | Balances due from depository institutions in the U.S. (Column A) Note: Items 2.a. and 2.b (Column A), of Schedule RC-A will be combined into this data item | RCFD0082.
RC-A | 3 (New) | Balances due from banks in foreign countries and foreign central banks (Column A) Note: Items 3.a. and 3.b (Column A), of Schedule RC-A will be combined into this data item | RCFD0070.
RC-F | 3 (New) | Interest-only strips receivable (not in the form of a security) Note: Items 3.a and 3.b of Schedule RC-F will be combined into this data item | To be determined (TBD).
RC-H | 22 (New) | Total amount of fair value option loans held for investment and held for sale Note: The proposed threshold change applicable to Schedule RC-Q applies to this item | TBD.
RC-P | 1 (New) | Retail originations during the quarter of 1-4 family residential mortgage loans for sale Note: Items 1.a, 1.b, and 1.c.(1) of Schedule RC-P will be combined into this data item | TBD.
RC-P | 2 (New) | Wholesale originations and purchases during the quarter of 1-4 family residential mortgage loan for sale Note: Items 2.a, 2.b, and 2.c.(1) of Schedule RC-P will be combined into this data item | TBD.
RC-P | 3 (New) | 1-4 family residential mortgage loans sold during the quarter Note: Items 3.a, 3.b, and 3.c.(1) of Schedule RC-P will be combined into this data item | TBD.
RC-P | 4 (New) | 1-4 family residential mortgage loans held for sale or trading at quarter-end Note: Items 4.a, 4.b, and 4.c.(1) of Schedule RC-P will be combined into this data item | TBD.
RC-P | 5 (New) | Noninterest income for the quarter from the sale, securitization, and servicing of 1-4 family residential mortgage loans Note: Items 5.a and 5.b of Schedule RC-P will be combined into this data item | TBD.
RC-P | 6 (New) | Repurchases and indemnifications of 1-4 family residential mortgage loans during the quarter Note: Items 6.a, 6.b, and 6.c.(1) of Schedule RC-P will be combined into this data item | TBD.
RC-Q | M3.a.(1) (New) | Loans measured at fair value: Secured by 1-4 family residential properties (Column A) Note: Items M3.a.(3)(a), M3.a.(3)(b)(1), and M3.a.(3)(b)(2), Column B, of Schedule RC-Q will be combined into this data item for the consolidated bank | TBD.
RC-Q | M3.a.(2) (New) | Loans measured at fair value: All other loans secured by real estate (Column A) Note: Items M3.a.(1), M3.a.(2), M3.a.(4), and M3.a.(5), Column B, of Schedule RC-Q will be combined into this data item for the consolidated bank | TBD.
RC-Q | M3.c (New) | Loans measured at fair value: Loans to individuals for household, family, and other personal expenditures (Column A) Note: Items M3.c.(1), M3.c.(2), M3.c.(3), and M3.c.(4), Column A, of Schedule RC-Q will be combined into this data item | TBD.
RC-Q | M4.a.(1) (New) | Unpaid principal balance of loans measured at fair value: Secured by 1-4 family residential properties (Column A) Note: Items M4.a.(3)(a), M4.a.(3)(b)(1), and M4.a.(3)(b)(2), Column B, of Schedule RC-Q will be combined into this data item for the consolidated bank | TBD.
RC-Q | M4.a.(2) (New) | Unpaid principal balance of loans measured at fair value: All other loans secured by real estate (Column A) Note: Items M4.a.(1), M4.a.(2), M4.a.(4), and M4.a.(5), Column B, of Schedule RC-Q will be combined into this data item for the consolidated bank | TBD.
RC-Q | M4.c (New) | Unpaid principal balance of loans measured at fair value: Loans to individuals for household, family, and other personal expenditures (Column A) Note: Items M4.c.(1), M4.c.(2), M4.c.(3), and M4.c.(4), Column A, of Schedule RC-Q will be combined into this data item | TBD.
RC-S | 2 (New) | Maximum amount of credit exposure arising from recourse or other seller-provided credit enhancements provided to structures reported in item 1 (Columns A through G) Note: Items 2.a, 2.b, and 2.c, Columns A through G, of Schedule RC-S will be combined into this data item | TBD (7 MDRM Numbers).
RC-S | 6 (New) | Total amount of ownership (or seller's) interest carried as securities or loans (Columns B, C, and F) Note: Items 6.a and 6.b, Columns B, C, and F, of Schedule RC-S will be combined into this data item | TBD (3 MDRM Numbers).
RC-V | 1.b (New) | Assets of consolidated variable interest entities (VIEs) that can be used only to settle obligations of the consolidated VIEs: Securities (Columns A and C) Note: Items 1.b and 1.c, Columns A and C, of Schedule RC-V removed above will be combined into this data item for Columns A and C (the latter to be relabeled as Column B) | TBD (2 MDRM Numbers).
RC-V | 1.c (New) | Assets of consolidated variable interest entities (VIEs) that can be used only to settle obligations of the consolidated VIEs: Loans and leases held for investment, net of allowance, and held for sale (Columns A and C) Note: Items 1.e, 1.f, and 1.g, Columns A and C, of Schedule RC-V removed above will be combined into this data item for Columns A and C (the latter to be relabeled as Column B) | TBD (2 MDRM Numbers).
RC-V | 5 (New) | Total assets of asset-backed commercial paper (ABCP) conduit VIEs | TBD.
RC-V | 6 (New) | Total liabilities of ABCP conduit VIEs | TBD.

Data Items With a New or Increased Reporting Threshold

Schedule RC-P is to be completed by institutions where any of the following residential mortgage banking activities (in domestic offices) exceeds $10 million for two consecutive quarters:

• 1-4 family residential mortgage loan originations and purchases for resale from all sources during a calendar quarter; or

• 1-4 family residential mortgage loan sales during a calendar quarter; or

• 1-4 family residential mortgage loans held for sale or trading at calendar quarter-end.

Schedule RC-Q is to be completed by banks that: (1) Have elected to report financial instruments or servicing assets and liabilities at fair value under a fair value option with changes in fair value recognized in earnings, or (2) are required to complete Schedule RC-D, Trading Assets and Liabilities.

Schedule RC-T: Increase the threshold for the exemption from reporting Schedule RC-T, data items 14 through 26, from institutions with fiduciary assets of $100 million or less to institutions with fiduciary assets of $250 million or less (that do not meet the fiduciary income test for quarterly reporting).

Schedule | Item | Item name | MDRM No.
RC-T | 14 | Income from personal trust and agency accounts | RIADB904.
RC-T | 15.a | Income from employee benefit and retirement-related trust and agency accounts: Employee benefit—defined contribution | RIADB905.
RC-T | 15.b | Income from employee benefit and retirement-related trust and agency accounts: Employee benefit—defined benefit | RIADB906.
RC-T | 15.c | Income from employee benefit and retirement-related trust and agency accounts: Other employee benefit and retirement-related accounts | RIADB907.
RC-T | 16 | Income from corporate trust and agency accounts | RIADA479.
RC-T | 17 | Income from investment management and investment advisory agency accounts | RIADJ315.
RC-T | 18 | Income from foundation and endowment trust and agency accounts | RIADJ316.
RC-T | 19 | Income from other fiduciary accounts | RIADA480.
RC-T | 20 | Income from custody and safekeeping accounts | RIADB909.
RC-T | 21 | Other fiduciary and related services income | RIADB910.
RC-T | 22 | Total gross fiduciary and related services income | RIAD4070.
RC-T | 23 | Less: Expenses | RIADC058.
RC-T | 24 | Less: Net losses from fiduciary and related services | RIADA488.
RC-T | 25 | Plus: Intracompany income credits for fiduciary and related services | RIADB911.
RC-T | 26 | Net fiduciary and related services income | RIADA491.

To be completed by banks with collective investment funds and common trust funds with a total market value of $1 billion or more as of the preceding December 31.

Schedule | Item | Item name | MDRM No.
RC-T | M3.a | Collective investment funds and common trust funds: Domestic equity (Columns A and B) | RCFDB931, RCFDB932.
RC-T | M3.b | Collective investment funds and common trust funds: International/Global equity (Columns A and B) | RCFDB933, RCFDB934.
RC-T | M3.c | Collective investment funds and common trust funds: Stock/Bond blend (Columns A and B) | RCFDB935, RCFDB936.
RC-T | M3.d | Collective investment funds and common trust funds: Taxable bond (Columns A and B) | RCFDB937, RCFDB938.
RC-T | M3.e | Collective investment funds and common trust funds: Municipal bond (Columns A and B) | RCFDB939, RCFDB940.
RC-T | M3.f | Collective investment funds and common trust funds: Short-term investments/Money market (Columns A and B) | RCFDB941, RCFDB942.
RC-T | M3.g | Collective investment funds and common trust funds: Specialty/Other (Columns A and B) | RCFDB943, RCFDB944.

To be completed by banks with $10 billion or more in total assets.

Schedule | Item | Item name | MDRM No.
RC-S | 6 (New) | Total amount of ownership (or seller's) interest carried as securities or loans (Columns B, C, and F) | TBD (3 MDRM Numbers).
RC-S | 10 | Reporting bank's unused commitments to provide liquidity to other institutions' securitization structures (Columns A and D through G) | RCFDB783, RCFDB786, RCFDB787, RCFDB788, RCFDB789.
RC-S | M3.a.(1) | Asset-backed commercial paper conduits: Maximum amount of credit exposure arising from credit enhancements provided to conduit structures in the form of standby letters of credit, subordinated securities, and other enhancements: Conduits sponsored by the bank, a bank affiliate, or the bank's holding company | RCFDB806.
RC-S | M3.a.(2) | Asset-backed commercial paper conduits: Maximum amount of credit exposure arising from credit enhancements provided to conduit structures in the form of standby letters of credit, subordinated securities, and other enhancements: Conduits sponsored by other unrelated institutions | RCFDB807.
RC-S | M3.b.(1) | Asset-backed commercial paper conduits: Unused commitments to provide liquidity to conduit structures: Conduits sponsored by the bank, a bank affiliate, or the bank's holding company | RCFDB808.
RC-S | M3.b.(2) | Asset-backed commercial paper conduits: Unused commitments to provide liquidity to conduit structures: Conduits sponsored by other unrelated institutions | RCFDB809.
RC-S | M4 | Outstanding credit card fees and finance charges included in Schedule RC-S, item 1, column C | RCFDC407.

To be completed by banks with $100 billion or more in total assets.

Schedule | Item | Item name | MDRM No.
RC-S | 3 | Reporting bank's unused commitments to provide liquidity to structures reported in item 1 (Columns A through G) | RCFDB726, RCFDB727, RCFDB728, RCFDB729, RCFDB730, RCFDB731, RCFDB732.

Dated: April 5, 2018.
Karen Solomon,
Acting Senior Deputy Comptroller and Chief Counsel, Office of the Comptroller of the Currency.
Board of Governors of the Federal Reserve System, April 2, 2018.
Ann Misback,
Secretary of the Board.
Dated at Washington, DC, on April 2, 2018.
Federal Deposit Insurance Corporation.
Robert E. Feldman,
Executive Secretary.

[FR Doc. 2018-07443 Filed 4-10-18; 8:45 am]

BILLING CODE 4810-33-P; 6210-01-P; 6714-01-P